DEPARTMENT OF HOUSING AND URBAN DEVELOPMENT

[Docket No. FR-4894-N-01]

Notice of Funding Availability for the Community Development Block Grant Program for Indian Tribes and Alaska Native Villages; Fiscal Year 2004

AGENCY: Office of the Assistant Secretary for Public and Indian Housing, HUD.

ACTION: Notice of funding availability (NOFA).

Overview Information

A. Federal Agency Name: Department of Housing and Urban Development, Office of the Assistant Secretary for Public and Indian Housing, Office of Native American Programs.

B. Funding Opportunity Title: Community Development Block Grant (ICDBG) Program for Indian Tribes and Alaska Native Villages.

C. Announcement Type: Initial Announcement.

D. Funding Opportunity Number: The Federal Register number for this NOFA is FR-4894-N-01. The OMB approval number for this program is 2577-0191.

E. Catalog of Federal Domestic Assistance (CFDA) Number(s): The Catalog of Federal Assistance (CFDA) Number for the Indian Community Development Block Grant Program is 14.862.

F. Dates: Application Deadline: The application due date is December 13, 2004.

G. Optional, Additional Overview Content Information:

1. Applicants for funding should carefully review the requirements identified in this NOFA. There is no separate application kit for this program in FY2004.

2. The total approximate amount of funding available for the ICDBG Program for FY2004 is $71,575,200 plus FY2003 carry-over of $2,140,538 for a total (approximately) of $73,715,738. Funds that are recaptured may also be used for grant awards under this NOFA.

3. Eligible applicants are Indian tribes or tribal organizations on behalf of Indian tribes. Specific information on eligibility is located in section III.A. of this NOFA.

Full Text of Announcement

I. Funding Opportunity Description

A. General: Title I of the Housing and Community Development Act of 1974, which authorizes Community Development Block Grants, requires that grants for Indian tribes be awarded on a competitive basis in accordance with selection criteria contained in a regulation promulgated by the Secretary after notice and public comment. All grant funds awarded in accordance with this NOFA are subject to the requirements of 24 CFR part 1003. Applicants within an Area ONAP geographic jurisdiction compete only against each other for that Area ONAP allocation of funds.

B. Program Description: The purpose of the ICDBG Program is the development of viable Indian and Alaska Native communities, including the creation of decent housing, suitable living environments, and economic opportunities primarily for persons with low- and moderate-incomes as defined in 24 CFR 1003.4. The Office of Native American Programs (ONAP) in HUD's Office of Public and Indian Housing administers the program.

All federally recognized Indian Tribes and Alaska Native Villages are eligible to participate in the ICDBG Program. Tribal organizations, as described in 24 CFR 1003.5, are also eligible applicants. Projects funded by the ICDBG Program must meet the primary objective, defined at 24 CFR 1003.2, to principally benefit low- and moderate-income persons. Consistent with this objective, not less than 70 percent of the expenditures of each single-purpose grant shall be for activities which meet the regulatory criteria at 24 CFR 1003.208 for:

1. Area Benefit Activities

2. Limited Clientele Activities

3. Housing Activities

4. Job Creation or Retention Activities

ICDBG funds may be used to improve housing stock, provide community facilities, improve infrastructure, and expand job opportunities by supporting the economic development of the communities, especially by nonprofit tribal organizations or local development corporations. ICDBG single-purpose grants are distributed as annual competitive grants, in response to this NOFA. Additional information on eligible activities can be found in section III.

C. Definitions Used in This NOFA:

1. Adopt. To approve by formal tribal resolution.

2. Assure. As an applicant, you must state your compliance, or in the case of future actions, your intent to comply with a specific NOFA requirement.

3. Document. To supply supporting written information and data in the application that satisfies the NOFA requirement. Documentation should clearly and concisely support your response to the rating factor.

4. Entity Other Than Tribe. A distinction is made between the requirements for point award under Rating Factor 3 if a tribe or an entity other than the tribe will assume maintenance and related responsibilities for projects other than economic development and land acquisition to support new housing. Entities other than the tribe must have the following characteristics:

(a) Must be legally distinct from the tribal government; (b) their assets and liabilities cannot be considered to be assets and liabilities of the tribal government; (c) claims against such entities cannot be made against the tribal government; and (d) must have governing boards, boards of directors, or groups or individuals similar in function and responsibility to such boards which are separate from the tribe's general council, tribal council, or business council, as applicable.

5. Homeownership Assistance Programs. Tribes may apply for assistance to provide direct homeownership assistance to low- and moderate-income households to: (a) Subsidize interest rates and mortgage principal amounts for low- and moderate-income homebuyers; (b) finance the acquisition by low- and moderate-income homebuyers of housing that is occupied by the homebuyers; (c) acquire guarantees for mortgage financing obtained by low- and moderate-income homebuyers from private lenders (except that ICDBG funds may not be used to guarantee such mortgage financing directly, and grantees may not provide such guarantees directly); (d) provide up to 50 percent of any downpayment required from a low- and moderate-income homebuyer; or (e) pay reasonable closing costs (normally associated with the purchase of a home) incurred by a low-or moderate-income homebuyer.

6. Leveraged Resources. Leveraged resources are resources that you will use in conjunction with ICDBG funds to achieve the objectives of the project. Leveraged resources include, but are not limited to: Tribal trust funds; loans from individuals or organizations; business investments; private foundations; State or Federal loans or guarantees; other grants; and non-cash contributions and donated services. (See Rating Factor 4 of this NOFA for documentation requirements for point award for leveraged resources.)

7. Microenterprise Programs. Tribes may apply for assistance to operate programs to fund the development, expansion, and stabilization of microenterprises. Microenterprises are defined as commercial entities with five or fewer employees, including the owner. Microenterprise program activities may entail the following assistance to eligible businesses: (a) Providing credit, including, but not limited to, grants, loans, loan guarantees, and other forms of financial support for the establishment, stabilization, and expansion of microenterprises; (b) providing technical assistance, advice, and business support services to owners of microenterprises and persons developing microenterprises; and (c) providing general support, including, but not limited to, peer support programs, counseling, child care, transportation, and other similar services to owners of microenterprises and persons developing microenterprises.

8. Operations and Maintenance (O&M) for Public Facilities and Improvements. While various items of cost will vary in importance and significance depending on the type of facility proposed, there are items of expense related to the operation of the physical plant which must be addressed in an O&M plan (tribe assumes responsibility) or in a letter of commitment (entity other than tribe will assume these responsibilities). These items include daily or other periodic maintenance activities; repairs such as replacing broken windows; capital improvements or replacement reserves for repairs such as replacing the roof; fire and liability insurance (may not be applicable to most types of infrastructure projects such as water and sewer lines); and security (may not be applicable to many types of infrastructure projects such as roads). Please note that while it is possible that the service provider may, in its agreement with a tribe, commit itself to cover certain or all facility O&M costs, as defined, these O&M costs do not include the program service provision costs related to the delivery of services (social, health, recreational, educational or other) which may be provided in a facility.

9. Outcomes. The ultimate impact you hope to achieve with the proposed project. Outcomes should be quantifiable measures or indicators and identified in terms of the change in the community, lives, economic status, etc. Common outcomes could include increases in percent of housing units in standard condition, rates of homeownership, or rates of employment.

10. Outputs. Outputs are the direct products of a program's activities. They are usually measured in terms of the volume of work accomplished, such as number of low-income households served, number of units constructed or rehabilitated, linear feet of curbs and gutters installed, or numbers of jobs created or retained. Outputs should be clear enough to allow HUD to monitor and assess your proposed project's progress if funded.

11. Project Cost. The total cost to implement the project. Project cost includes both ICDBG and non-ICDBG funds and resources.

12. Standard Housing/Standard Condition. Housing that meets the housing quality standards (HQS) adopted by the applicant. The HQS adopted by the applicant must be at least as stringent as the Section 8 HQS contained in 24 CFR 982.401 (Section 8 Tenant-Based Assistance: Housing Choice Voucher Program) unless the ONAPs approve less stringent standards based on a determination that local conditions make the use of Section 8 HQS infeasible. You may submit, before the application due date, a request for the approval of standards less stringent than section 8 HQS. If you submit the request with your application, you should not assume automatic approval by the ONAPs. The adopted standards must provide for (a) a safe house, in physically sound condition with all systems performing their intended design functions; (b) a livable home environment and an energy efficient building and systems that incorporate energy conservation measures; and (c) an adequate space and privacy for all intended household members.

13. Tribe. Please note: when used in this NOFA the word “tribe” means an Indian tribe, band, group or nation, including Alaska Indians, Aleuts, Eskimos, Alaska Native Villages, ANCSA Village Corporations, and ANCSA Regional Corporations.

II. Award Information

A. Available Funds: The FY2004 appropriation for the ICDBG Program is $71,575,200. In addition, an FY2003 ICDBG carry-over of $2,140,538 is available for distribution for a total of $73,715,738. Funds that are recaptured may also be used for grant awards under this NOFA.

B. Allocations to Area ONAPs: The requirements for allocating funds to Area ONAPs responsible for program administration are found at 24 CFR 1003.101. Following these requirements, based on an appropriation of $71,575,200 and FY2003 ICDBG carry-over of $2,140,538, the allocations for FY2004 are approximately as follows:

Eastern/Woodland | $ 8,279,282
Southern Plains | 15,894,094
Northern Plains | 10,455,318
Southwest | 27,766,597
Northwest | 3,603,106
Alaska | 7,717,341
Total | $73,715,738

III. Eligibility Information

A. Eligible Applicants: Eligible applicants are Indian tribes or tribal organizations on behalf of Indian tribes. To apply for funding you must be eligible as an Indian tribe (or as a tribal organization), as required by 24 CFR 1003.5, by the application submission date.

Tribal organizations are permitted to submit applications under 24 CFR 1003.5(b) on behalf of eligible tribes when one or more eligible tribe(s) authorize the organization to do so under concurring resolutions. As is stated in this regulatory section, the tribal organization must itself be eligible under Title I of the Indian Self-Determination and Education Assistance Act. The Bureau of Indian Affairs (BIA) or the Indian Health Service, as appropriate, must make a determination of such eligibility. This determination must be provided to the Area ONAP by the application submission date.

If a tribe or tribal organization claims that it is a successor to an eligible entity, the Area ONAP must review the documentation to determine whether it is in fact the successor entity.

Due to the unique structure of tribal entities eligible to submit ICDBG applications in Alaska, and as only one ICDBG application may be submitted for each area within the jurisdiction of an entity eligible under 24 CFR 1003.5, a tribal organization that submits an application for activities in the jurisdiction of one or more eligible tribes or villages must include a concurring resolution from each such tribe or village authorizing the submittal of the application. Each such resolution must also indicate that the tribe or village does not itself intend to submit an ICDBG application for that funding round. The hierarchy for funding priority continues to be the IRA Council, the Traditional Village Council, the ANCSA Village Corporation, and the ANCSA Regional Corporation.

On December 5, 2003 (68 FR 68180), the BIA published a Federal Register notice entitled, “Indian Entities Recognized and Eligible to Receive Services From the United States Bureau of Indian Affairs.” This notice provides a listing of Indian Tribal Entities in Alaska found to be Indian tribes as the term is defined and used in 25 CFR part 83. Additionally, pursuant to Title I of the Indian Self-Determination and Education Assistance Act, ANCSA Village Corporations and Regional Corporations are also considered tribes and therefore eligible applicants for the ICDBG program.

Any questions regarding eligibility determinations and related documentation requirements for entities in Alaska should be referred to the Alaska Area ONAP prior to the application submission date. (See 24 CFR 1003.5 for a complete description of eligible applicants.)

B. Cost Sharing or Matching: Cost sharing or matching is not required under this grant; however, applicants who leverage this grant with other funds receive points. See section V, (A)(2) Rating Factor 4.

C. Other:

1. Program and Project Specific Requirements:

a. Low- and Moderate-Income Status for Rehabilitation Projects. All households that receive grant assistance under a housing rehabilitation project must be of low- and moderate-income status.

b. Housing Rehabilitation Cost Limits. Grant funds spent on rehabilitation per house must fall within the following limits for each Area ONAP jurisdiction:

Eastern/Woodlands | $35,000
Southern Plains | 30,000
Northern Plains | 45,000
Southwest | 40,000
Northwest | 40,000
Alaska | 55,000

c. Commitment to Housing for Land Acquisition to Support New Housing Projects. For land acquisition to support new housing projects, your application must include evidence of a financial commitment and an ability to construct at least 25 percent of the housing units to be built on the land proposed for acquisition. This evidence must consist of one (or more) of the following: a firm or conditional commitment to construct (or to finance the construction of) the units; documentation that an approvable application for the construction of these units has been submitted to a funding source or entity; or, documentation that these units are specifically identified in the Indian Housing Plan (IHP) (one-Year Financial Resources Narrative; Table 2, Financial Resources, Part I., Line 1E; and Table 2, Financial Resources, Part II) submitted by or on behalf of the applicant as an affordable housing resource with a commensurate commitment of Indian Housing Block Grant (IHBG) (also known as the Native American Housing Block Grant) (NAHBG) resources. If the IHP for the IHBG (also known as NAHBG) program year that coincides with the implementation of the ICDBG-proposed project has not been submitted, you must provide an assurance that when submitted, the IHP will specifically reference the proposed project.

d. Health Care Facilities. If you propose a facility that would provide health care services funded by the Indian Health Service (IHS), you must assure that the facility meets all applicable IHS facility requirements. We recognize that tribes that are contracting services from the IHS may establish other facility standards. These tribes must assure that these standards are at least comparable to nationally accepted minimum standards.

2. Application Screening: The Area ONAP will screen applications for single-purpose grants. The Area ONAP will reject an application that fails this screening and will return it unrated. The Area ONAP will accept your application if it meets all the criteria listed below in items a through f.

a. Your application is received or submitted in accordance with the requirements set forth under Application and Submission Procedures in section IV of this NOFA;

b. You are eligible;

c. The proposed project is eligible;

d. Your application contains substantially all the components specified in section IV. B. of this NOFA;

e. Your application shows that at least 70 percent of the grant funds are to be used for activities that benefit low- and moderate-income persons, in accordance with the requirements of 24 CFR 1003.208. For screening purposes only, HUD will use the 2000 Census data if the data you submitted does not meet this screening requirement; and

f. Your application is for an amount that does not exceed the grant ceilings listed in section IV.E.3.

3. Name Check Review: Applicants are subject to a name check review process. Name checks are intended to reveal matters that significantly reflect on the applicant's management and financial integrity, or if any key individuals have been convicted or are presently facing criminal charges. If the name check reveals significant adverse findings that reflect on the business integrity or responsibility of the recipient and key individual, HUD reserves the right to: (a) Require the removal of any key individual from association with management of and implementation of the award; and (b) make appropriate provisions or revisions with respect to the method of payment and financial reporting requirements.

4. Delinquent Federal Debt: Consistent with the purpose and intent of 31 U.S.C. 3720B and 28 U.S.C. 3201(e), no award of federal funds shall be made to an applicant who has an outstanding delinquent federal debt until: (a) The delinquent account is paid in full; (b) a negotiated repayment schedule is established; or (c) other arrangements satisfactory to the Department of Housing and Urban Development are made prior to the deadline submission date.

5. False Statements: False statements in an application are grounds for denial or termination of an award and grounds for possible punishment as provided in 18 U.S.C. 1001.

6. DUN and Bradstreet Universal Numbering System (DUNS) Number Requirement: Beginning in Federal Fiscal Year 2004, any applicant seeking funding directly from HUD, or other Federal agencies, must obtain a DUNS number and include it in their SF424 Application for Federal Assistance submission. Failure to provide a DUNS number will prevent you from obtaining an award. This policy is pursuant to OMB Policy issued in the Federal Register on June 27, 2003 (68 FR 38402, June 27, 2003). A copy of the OMB Federal Register notice and HUD's regulation implementing the DUNS number can be found on HUD's Web site at http://www.hud.gov/offices/adm/grants/duns.cfm. Failure to provide a DUNS number with the application submission will be treated as a technical deficiency to the application. If the DUNS number is not provided within the cure period (see section V.B.9.a.), the application will not be funded.

Organizations can receive a DUNS number at no cost by calling the dedicated toll-free DUNS number request line at 866-705-5711 or applying online at http://www.dunandbradstreet.com. Persons with speech or hearing impairments may access the above telephone number via TTY by calling the Federal Information Relay Service at (800) 877-8339. For faster service, HUD recommends using the telephone request line to obtain the DUNS number.

7. Accessible Technology: The Rehabilitation Act Amendments of 1998 apply to all electronic information technology (EIT) used by a grantee for transmitting, receiving, using, or storing information to carry out the responsibilities of any Federal grant awarded. The Act's coverage includes, but is not limited to, computers (hardware, software, word-processing, e-mail, and Web pages), facsimile machines, copiers, and telephones. When developing, procuring, maintaining, or using EIT, funding recipients must ensure that the EIT allows employees with disabilities and members of the public with disabilities to have access to and use of information and data that is comparable to the access and use of information and data by employees and members of the public who do not have disabilities. If these standards impose a hardship on a funding recipient, they may provide an alternative means to allow the individual to use the information and data. However, no grantee will be required to provide information services to a person with disabilities at any location other than one at which the information services is generally provided.

8. Ensuring the Participation of Small Businesses, Small Disadvantaged Businesses, and Women-Owned Businesses: HUD is committed to ensuring that small businesses, small disadvantaged businesses, and women-owned businesses participate fully in HUD's direct contracting and in contracting opportunities generated by HUD grant funds. Too often, these businesses still experience difficulty in accessing information and successfully bidding on Federal contracts. State, local, and tribal governments are required by 24 CFR 85.36(e) and nonprofit recipients of assistance (grantees and sub-grantees) by 24 CFR 84.44(b), to take all necessary affirmative steps in contracting for purchase of goods or services to assure that minority firms, women's business enterprises, and labor surplus area firms are used when possible.

9. Salary Limitation for Consultants: FY2004 funds may not be used to pay or to provide reimbursement for payment of the salary of a consultant at more than the daily equivalent of the rate paid for level IV of the Executive Schedule, unless specifically authorized by law.

10. Executive Order 13202, Preservation of Open Competition and Government Neutrality Toward Government Contractors' Labor Relations on Federal and Federally Funded Construction Projects: Compliance with HUD regulations in 24 CFR 5.108, which implements E.O. 13202, is a condition of receipt of assistance under this NOFA.

11. Executive Order 13279, Equal Protection of the Laws for Faith-Based and Community Organizations: HUD is committed to full implementation of Executive Order 13279 and has undertaken a review of all policies and regulations that have implications for faith-based and community organizations. Also, it has established a policy priority to provide full and equal access to grassroots faith-based and other community-based organizations in HUD program implementation. Applicants are urged to complete and return the “Survey Ensuring Equal Opportunity for Applicants,” included with other standard forms in appendix B. Your participation in the survey will help HUD measure its success providing equal access to its programs for all applicants.

12. Executive Order 13166, Improving Access to Services for Persons With Limited English Proficiency (LEP): Executive Order 13166 seeks to improve access to federally assisted services, programs, and benefits for individuals with limited English proficiency. Applicants obtaining an award from HUD must seek to provide access to program benefits and information to LEP individuals through translation and interpretative services in languages other than English that are common in significant numbers in the community, in accordance with HUD LEP guidance published at 68 FR 70967-70980 on December 19, 2003 (http://a257.g.akamaitech.net/7/257/2422/14mar20010800/edocket.access.gpo.gov/2003/pdf/03-31267.pdf). Further guidance may be found at the LEP Web site at http://www.lep.gov.

13. Conducting Business in Accordance With Core Values and Ethical Standards: Entities subject to 24 CFR part 85 (most nonprofit organizations and State, local, and tribal governments or government agencies or instrumentalities that receive Federal awards of financial assistance) are required to develop and maintain a written code of conduct (see section 85.36(b)(3)). Consistent with regulations governing specific programs, your code of conduct must: Prohibit real and apparent conflicts of interest that may arise among officers, employees, or agents; prohibit the solicitation and acceptance of gifts or gratuities by your officers, employees, and agents for their personal benefit in excess of minimal value; and outline administrative and disciplinary actions available to remedy violations of such standards. If awarded assistance under this NOFA, you will be required, prior to entering into an agreement with HUD, to submit a copy of your code of conduct and describe the methods you will use to ensure that all officers, employees, and agents of your organization are aware of your code of conduct. Failure to meet the requirement for a code of conduct will prohibit you from receiving an award of funds from HUD.

14. Pre-Award Accounting System Surveys: HUD may arrange for a pre-award survey of the applicant's financial management system in cases where the recommended applicant has no prior federal support, the program area has reason to question whether the applicant's financial management system meets Federal financial management standards, or the applicant is considered a high risk based upon past performance or financial management findings. HUD will not make an award to any applicant who does not have a financial management system that meets federal standards.

IV. Application and Submission Information

A. Addresses to Request Application Package: All required information and application forms are contained in this NOFA. A separate application kit is not available this year. In response to concerns about how long it takes for the publication and dissemination of application kits, HUD has made an effort to improve the readability of the NOFA and publish all required forms and application submission information in the Federal Register. As a result of this effort, you will not have to wait for an application kit to begin to prepare your application for funding.

A copy of the published NOFA and application forms for the ICDBG Program may be downloaded from the grants.gov Web site at http://www.grants.gov, ONAP's Web site at http://www.codetalk.fed.us/HUD_ONAP.html, or you may call HUD's NOFA Information Center at 800-HUD-8929 or for the hearing impaired, call 800-HUD-2209.

B. Content and Form of Application Submission:

1. Application Information: To expedite the review of your application and ensure that your application is given a thorough and complete review of all responses to each of the components of the selection criteria, please indicate, on the first page of each project submission, the type of project(s) being proposed: Economic Development, Homeownership Assistance, Housing Rehabilitation, Land Acquisition to Support New Housing, Microenterprise Programs, New Housing Construction, or Public Facilities and Improvements. This will help to ensure that the appropriate project-specific thresholds and rating subfactors will be applied.

In addition, please use separate tabs for each rating factor and rating subfactor. In order to be rated, make sure the response is beneath the appropriate heading. Keep the responses in the same order as the NOFA. Limit your narrative explanations to 200 words or less and provide the necessary data such as a market analysis, a pro forma, housing survey data, etc., that support the response. Include all relevant material to a response under the same tab. Only include documentation that will clearly and concisely support your response to the rating criteria.

HUD suggests that you do a preliminary rating for your project, providing a score according to the NOFA point system. This will show you how reviewers might score your project. Also, it will show you where the strengths and weaknesses of the application are located. This will help you determine where improvements can be made to your application prior to its submission.

The published Federal Register document is the official document that HUD uses to evaluate applications. Therefore, if there is a discrepancy between any materials published by HUD in hard copy or on www.grants.gov, or on any HUD Web site, and the Federal Register publication of the NOFA, the information published in the NOFA Federal Register publication (including any corrections published in the Federal Register) prevails.

2. Content of Application, Forms, Certifications, and Assurances: The applicant must respond in narrative form to all five of the rating factors listed in section V.A.2. of this NOFA. In addition, the applicant must submit all of the forms required in this section of the NOFA, along with other data listed below.

a. Demographic data. You may submit data that are unpublished and not generally available in order to meet the requirements of this section. Your application must contain a statement that the following criteria have been met:

(1) Generally available published data are substantially inaccurate or incomplete;

(2) Data that you submit have been collected systematically and are statistically reliable;

(3) Data are, to the greatest extent feasible, independently verifiable; and

(4) Data differentiate between reservation and BIA service area populations, when applicable.

b. Publication of Community Development Statement. You must prepare and publish or post the community development statement portion of your application according to the citizen participation requirements of 24 CFR 1003.604.

c. Application Submission. Your application must contain the items listed below.

(1) Application for Federal Assistance (SF-424);

(2) Applicant/Recipient Disclosure/Update Report (HUD-2880);

(3) Acknowledgement of Application Receipt (HUD-2993).

If the application has been submitted by a tribal organization as defined in 24 CFR 1003.5(b), on behalf of an Indian tribe, you must submit concurring resolutions from the Indian tribe stating that the tribal organization is applying on the tribe's behalf.

The other required items are as follows:

(4) Community Development Statement that includes:

(a) Components that address the general threshold requirement and the relevant project-specific thresholds and rating factors;

(b) A schedule for implementing the project (Form HUD-4125, Implementation Schedule); and

(c) Cost information for each separate project, including specific activity costs, administration, planning, technical assistance, and total HUD share (Form HUD-4123, Cost Summary).

(5) Certifications (Form HUD-4126);

(6) A map showing project location, if appropriate;

(7) If the proposed project will result in displacement or temporary relocation, a statement that identifies:

(a) The number of persons (families, individuals, businesses, and nonprofit organizations) occupying the property on the date of the submission of the application (or date of initial site control, if later);

(b) The number to be displaced or temporarily relocated;

(c) The estimated cost of relocation payments and other services;

(d) The source of funds for relocation; and

(e) The organization that will carry out the relocation activities;

(8) If applicable, evidence of the disclosure required by 24 CFR 1003.606(e) regarding conflict of interest.

(9) If applicable, the demographic data statement described in section IV.B.2.a. and section V.A.2., Rating Factor 2 of this NOFA. The data accompanying the statement must identify the total number of persons benefiting from the project and the total number of low- and moderate-income persons benefiting from the project. To be considered, supporting documentation must include all of the following: A sample copy of a completed survey form; an explanation of the methods used to collect the data; and a listing of incomes by household.

(10) Optional submissions are:

(a) Client Comments and Suggestions (HUD-2994);

(b) Logic Model, HUD-96010;

(c) SF 424, Supplemental Survey on Ensuring Equal Opportunity for Applicants.

Copies of all application forms listed in this section are provided in appendix B of this NOFA.

C. Submission Dates and Times:

1. Application Due Date. Your completed application (one original and two copies) must be postmarked on or before 12 midnight, and be received by the designated Area Office of Native American Programs (ONAP) on or within 15 days of the application due date. HUD will not accept any applications sent electronically or by facsimile.

D. Intergovernmental Review: Executive Order 12372, Intergovernmental Review of Federal Programs, was issued to foster intergovernmental partnership and strengthen federalism by relying on State and local processes for the coordination and review of Federal financial assistance and direct Federal development. HUD implementing regulations are published in 24 CFR part 52. The Order allows each state to designate an entity to perform a state review function. The official listing of State Points of Contact (SPOC) for this review process can be found at http://www.whitehouse.gov/omb/grants/spoc.html. Please note that Indian tribes are not subject to the intergovernmental review process.

E. Funding Restrictions:

1. Ineligible Activities: In general, any activity that is not authorized under the provisions of 24 CFR 1003.201-1003.206 is ineligible to be assisted with ICDBG grant funds. The regulations at 24 CFR 1003.207 govern ineligible activities and should be referred to for details. The following guidance is provided in determining the eligibility of other activities frequently associated with ICDBG projects.

a. Government Office Space. Buildings, or portions thereof, used predominantly for the general conduct of government, cannot be assisted with ICDBG funds. Those buildings include, but are not limited to, local government office buildings, courthouses, and other headquarters of government where the governing body meets regularly. Buildings that contain both governmental and nongovernmental services can be assisted as long as the ICDBG funds are used only for the nongovernmental sections. Examples of ineligible buildings are a building to house the community development division or a tribal administration building. Your Area ONAP office should be consulted for projects of this nature.

b. General Government Expenses. Except as authorized in the regulations or under OMB Circular A-87, expenses required to carry out the regular responsibilities of the unit of general local government are not eligible for assistance with ICDBG funds.

c. Maintenance and Operation Expenses. In general, any expenses associated with repairing, operating, or maintaining public facilities and services are not eligible for assistance. Specific exceptions to this general rule are operating and maintenance expenses associated with public service activities [24 CFR 1003.201(e)], office space for program staff employed in carrying out the ICDBG program [24 CFR 1003.206(a)(4)], and interim assistance [24 CFR 1003.201(f)]. For example, where a public service is being assisted with CDBG funds, the cost of operating and maintaining that portion of the facility in which the service is located is eligible as part of the public service. Examples of ineligible operating and maintenance expenses are routine and non-routine maintenance and repair of streets, parks, playgrounds, water and sewer facilities, neighborhood facilities, senior centers, centers for persons with disabilities, parking facilities, similar public facilities, payment of salaries for staff, utility costs, and similar expenses necessary for the operation of public works and facilities.

d. New Housing Construction. The construction of new permanent residential structures and any program to subsidize or finance such new construction is ineligible unless carried out by a Community-Based Development Organization (CBDO) pursuant to 24 CFR 1003.204(a).

e. Furnishings and Personal Property. In general, the purchase of equipment, fixtures, motor vehicles, furnishings, or other personal property that is not an integral structural fixture is ineligible. Exceptions include when such purchases are necessary for use in grant administration (24 CFR 1003.206); necessary and appropriate for use in a project carried out by a CBDO (24 CFR 1003.204); used in providing a public service (24 CFR 1003.201(e)); or used as firefighting equipment (24 CFR 1003.201(c)(1)(ii). However, ICDBG funds may be used to pay depreciation or use allowances (in accordance with OMB Circular A-87 or A-122 as applicable).

f. Construction Tools and Equipment. The purchase of construction tools and equipment is generally ineligible. However, compensation for the use of such tools and equipment through leasing, depreciation, or use allowances pursuant to OMB Circulars A-87 and A-122, as applicable, for an otherwise eligible activity is an eligible use of ICDBG funds. Exceptions include construction tools and equipment purchased for use as part of a solid waste facility (24 CFR 1003.201(c)(1)(ii)) and construction tools only (not equipment) purchased for use in a housing rehabilitation project being administered by the recipient using the force account construction method (24 CFR 1003.202(b)(8)).

g. Income Payments. In general, assistance shall not be used for income payments for housing or any other purpose. Income payments mean a series of subsistence-type grant payments made to an individual or family for items such as food, clothing, housing (rent or mortgage), or utilities, but excludes emergency payments made over a period of up to three months to the provider of such items or services on behalf of an individual or family. Examples of ineligible income payments include the payments for income maintenance and housing allowances.

2. Grant Ceilings: The authority to establish grant ceilings is found at 24 CFR 1003.100(b)(1). Grant ceilings are established for FY2004 funding at the following levels:

Area ONAP | Population | Ceiling
Eastern Woodlands | ALL | $500,000
Southern Plains | ALL | 800,000
Northern Plains | ALL | 900,000
Southwest | 50,001+ | 5,500,000
| 10,501-50,000 | 2,750,000
| 7,501-10,500 | 2,200,000
| 6,001-7,500 | 1,100,000
| 1,501-6,000 | 825,000
| 0-1,500 | 605,000
Northwest | ALL | 500,000
Alaska | ALL | 500,000

For the Southwest Area ONAP jurisdiction, the population used to determine ceiling amounts is the Native American population that resides on a reservation or rancheria. Please contact that office before submitting your application if you are unsure of the population level to use to determine the ceiling amount for your tribe or if you believe that the level used for previous years needs to be revised or corrected. The Southwest ONAP must approve any corrections or revisions to Native American population data before you submit your application.

3. Program Related Threshold Requirements:

a. Outstanding ICDBG Obligation. According to 24 CFR 1003.301(a), an applicant who has an outstanding ICDBG obligation to HUD that is in arrears, or one that has not agreed to a repayment schedule, will be disqualified from the competition.

b. Compliance with Fair Housing and Civil Rights Laws. With the exception of federally recognized Indian tribes and their instrumentalities, all applicants and their subrecipients must comply with all Fair Housing and Civil Rights laws, statutes, regulations, and Executive Orders as enumerated in 24 CFR 5.105(a). If you are a federally recognized Indian tribe, you must comply with the nondiscrimination provisions enumerated at 24 CFR 1003.601, as applicable. If you, the applicant:

(1) Have been charged with a systemic violation of the Fair Housing Act alleging ongoing discrimination; or

(2) Are a defendant in a Fair Housing Act lawsuit filed by the Department of Justice alleging an ongoing pattern or practice of discrimination; or

(3) Have received a letter of noncompliance findings identifying ongoing or systemic noncompliance, under Title VI of the Civil Rights Act of 1964, section 504 of the Rehabilitation Act of 1973, or section 109 of the Housing and Community Development Act of 1974; and the charge, lawsuit, or letter of findings referenced above has not been resolved to HUD's satisfaction before the application deadline stated in this NOFA, you are ineligible and the application will not be rated or ranked. HUD makes a determination of whether actions to resolve a charge, lawsuit, or letter of findings taken prior to the application deadline are sufficient to resolve the matter.

Examples of actions that would normally be considered sufficient to resolve the matter include but are not limited to:

(a) A voluntary compliance agreement signed by all parties in response to the letter of findings;

(b) A HUD-approved conciliation agreement signed by all parties;

(c) A consent order or consent decree; or

(d) An issuance of a judicial ruling or a HUD Administrative Law Judge's decision.

4. Project-Specific Threshold Requirements:

a. Housing Rehabilitation Project Thresholds. In accordance with 24 CFR 1003.302(a), for housing rehabilitation projects, you must adopt rehabilitation standards and rehabilitation policies before you submit an application. You must submit with the application evidence the policies or standards have been adopted in accordance with tribal law or practice. You must also provide an assurance that project funds will be used to rehabilitate HUD-assisted houses only when the tenant or homebuyer's payments are current or the tenant or homebuyer is current in a repayment agreement except in emergency situation. The ONAP Administrator on a case-by-case basis may approve exceptions to this requirement.

b. Land Acquisition to Support New Housing Project Thresholds. No project-specific thresholds.

c. New Housing Construction Project Thresholds.

(1) In accordance with 24 CFR 1003.302(b), new housing construction can be implemented only when necessary through a Community Based Development Organization (CBDO). Eligible CBDOs are described in 24 CFR 1003.204(c). You must provide documentation establishing that the entity implementing your new housing construction project qualifies as a CBDO.

(2) In accordance with 24 CFR 1003.302, you must submit a current (in effect) tribal resolution adopting and identifying construction standards.

(3) In accordance with 24 CFR 1003.302, you must also include in your application documentation that supports the following:

(a) All households to be assisted under a new housing construction project must be of low- or moderate-income status;

(b) No other housing is available in the immediate reservation area that is suitable for the households to be assisted;

(c) No other sources including an IHBG can meet the needs of the household(s) to be served; and

(d) Rehabilitation of the unit occupied by the household(s) to be assisted is not economically feasible, or the household(s) to be housed currently is in an overcrowded house (more than one household per house), or the household to be assisted has no current residence.

d. Homeownership Assistance Project Thresholds. No project specific thresholds.

e. Public Facilities and Improvements Project Thresholds. No project specific thresholds.

f. Economic Development Project Thresholds. In accordance with 24 CFR 1003.302, for economic development assistance projects, you must provide a financial analysis. The financial analysis must demonstrate that the project is financially feasible and the project has a reasonable chance of success. The analysis must also demonstrate the public benefit resulting from the ICDBG assistance. The more funds you request, the greater public benefit you must demonstrate. The analysis must also establish that to the extent practicable, reasonable financial support will be committed from non-federal sources prior to disbursement of federal funds; any grant amount provided will not substantially reduce the amount of non-federal financial support for the activity; not more than a reasonable rate of return on investment is provided to the owner; and that grant funds used for the project will be disbursed on a pro-rata basis with amounts from other sources.

g. Microenterprise Program Thresholds. No project specific threshold.

5. Public Service Projects: Because there is a statutory 15 percent cap on the amount of grant funds that may be used for public service activities, you may not receive a single-purpose grant solely to fund public service activities. Your application, however, may contain a public service component for up to 15 percent of the total grant. This component may be unrelated to the other project(s) included in your application. If your application does not receive full funding, we will reduce the public service allocation proportionately so that it comprises no more than 15 percent of the total grant award. In making such reductions, the feasibility of the proposed project will be taken into consideration. If a proportionate reduction of the public service allocation renders such a project infeasible, the project will not be funded. A complete description of Public Service Projects is located at 24 CFR part 1003.201.

6. Restrictions on Eligible Activities: Activities that are eligible for ICDBG funding are identified at 24 CFR part 1003, subpart C. Please note that although this subpart has not yet been revised to include the restrictions on activity eligibility that were added to section 105 of the CDBG statute by section 588 of the Quality Housing and Work Responsibility Act of 1998, these restrictions apply. Specifically, ICDBG funds may not be used to assist directly in the relocation of any industrial or commercial plant, facility, or operation, from one area to another, if the relocation is likely to result in a significant loss of employment in the labor market area from which the relocation occurs. Rating Factors 2 and 3 included under section V. specify many of the activities listed as eligible under part 1003, subpart C. Those listed include new housing construction (in certain circumstances as described in Rating Factors 2 and 3 in section V.), housing rehabilitation, land acquisition to support new housing, homeownership assistance, public facilities and improvements, economic development, and microenterprise programs. However, the following eligible activities not clearly identified by the rating factors may be proposed and rated as described below. During the past few years, many tribes have experienced high incidences of mold growth in tribal homes and buildings. Renovation of affected buildings is eligible under housing rehabilitation or public facility improvement projects.

For a complete description of eligible activities, please refer to 24 CFR part 1003, subpart C.

a. Acquisition of property. This activity can be proposed as Land to Support New Housing or as part of New Housing Construction, Public Facilities and Improvements, or Economic Development depending on the purpose of the land acquisition to support new construction.

b. Assistance to Institutions of Higher Learning. If such entities have the capacity, they can help the ICDBG grantees to implement eligible projects.

c. Assistance to Community Based Development Organizations (CBDOs). Grantees may provide assistance to these organizations to undertake activities related to neighborhood revitalization, community economic development, or energy conservation.

d. Clearance, Demolition. These activities can be proposed as part of Housing Rehabilitation, New Housing Construction, Public Facilities and Improvements, Economic Development, or Land to Support New Housing. Section 1003.201(d) states, “Demolition of HUD-assisted housing units may be undertaken only with the prior approval of HUD.”

e. Code Enforcement. This activity can be proposed as Housing Rehabilitation. The activity must comply with the requirements at 24 CFR 1003.202.

f. Comprehensive Planning. This activity is eligible, and can be proposed, as part of any otherwise-eligible project to the extent allowed by the 20 percent cap on the grant for planning and administration.

g. Energy Efficiency. Associated activities can be proposed under Housing Rehabilitation or Public Facilities and Improvements depending upon the type of energy efficiency activity.

h. Lead Based Paint Abatement and Evaluation. These activities can be proposed under Housing Rehabilitation.

i. Non-Federal Share. ICDBG funds can be used as a match for any non-ICDBG funding to the extent allowed by such funding and the activity is eligible under 24 CFR part 1003, subpart C.

j. Privately and Publicly Owned Commercial or Industrial Buildings (real property improvements). These activities can be proposed under Economic Development. Privately owned commercial rehabilitation is subject to the requirements at 24 CFR 1003.202.

k. Privately Owned Utilities. Assistance to privately owned utilities can be proposed under Public Facilities and Improvements.

l. Removal of Architectural Barriers. This includes removing barriers that restrict mobility and access for elderly and persons with disabilities. In addition, accommodation should be made for persons with all varieties of disabilities to enable them to benefit from these activities. This activity can be proposed under Housing Rehabilitation or Public Facilities and Improvements depending upon the type of structure where the barrier will be removed.

F. Other Submission Requirements:

1. Mailing and Receipt Procedures. The following procedures apply to the delivery and receipt of applications. Please read the following instructions carefully and completely as failure to comply with these procedures may disqualify your application. HUD's delivery and receipt policies are:

a. Hand deliveries will be accepted in FY2004 until 5 p.m. local time at the Area ONAP designated for your jurisdiction in section IV.F.3. However, if HUD staff are not available to accept your package or the courier service, due to security or other reasons, is not allowed to enter the building to deliver the package, the package will be determined not delivered and not accepted by HUD. HUD will not accept responsibility for ensuring that staff is available to take your package and will not breach security measures in order to accept an undeliverable package. If the applicant experiences problems gaining entry to HUD's offices, the applicant is encouraged to take the application to the nearest post office and follow the mailing instructions for postal service timely delivery.

b. Applications may be shipped using DHL, Falcon Carrier, Federal Express (FedEx), United Parcel Services (UPS), or the United States Postal Service. Please be aware that the United States Postal Service is no longer delivering large packages dropped in mailboxes, even though there may be sufficient postage. In order to have your application package delivered and not returned to sender, you must have the package accepted by a postal clerk at a post office counter. At the counter, you can proceed to obtain the necessary postage and the USPS Form 3817 or the receipt received from the post office showing the postal facility name, location and date and time of mailing, as noted below under Proof of Timely Submission. Be sure to obtain a receipt for applications submitted to delivery services or to the United States Postal Service.

c. All mailed applications must be postmarked on or before midnight of their due date and received within 15 days of the due date.

2. Proof of Timely Submission. In the case of a disputed submission for applications mailed by the United States Postal Service, the proof of timely submission to HUD field offices will be the Certificate of Mailing (USPS Form 3817). If the postal service does not normally postmark large packages, the proof of timely submission shall be received within 15 days at the designated Area Office, and upon request by a HUD official, proof of mailing using USPS Form 3817, Certificate of Mailing or a receipt from the Post Office which contains the post office name, location, and date and time of mailing. For submission through the United States Postal Service, no other proof of timely submission will be accepted. If items are mailed from the post office using express mail delivery service, the express mail receipt will be acceptable if it indicates the date and time of mailing. In the case of disputed submissions for applications submitted to HUD via a delivery service other than the United States Postal Service, the documentary proof of timely submission will be the delivery service receipt indicating the application was submitted to the delivery service at least 24 hours prior to the application due date and, through no fault of the applicant, delivery could not be made on or before the application due date. If a courier attempting application delivery is turned away from a HUD facility due to security issues, this situation will not be considered as meeting the requirement of “no fault of the applicant.” Applicants have been advised that delivery issues can arise when use of courier services results in late application submission.

Please remember that mail to federal facilities is screened prior to delivery, so please allow time for your package to be delivered. If you mail your application to the wrong location and the office designated for receipt in accordance with these submission requirements does not receive it, your application will be considered late and not be considered for funding. HUD will not be responsible for directing it to the appropriate office.

3. Addresses for Submitting Applications. Submit the original signed application and two copies to the appropriate Area ONAP for your jurisdiction. A list identifying each Area ONAP jurisdiction is provided below. Please note that the Denver, Oklahoma, and Alaska offices have new addresses.

If you are applying from this geographic location then... | send your application to this Area ONAP: (Persons with hearing or speech impairments may access the telephone numbers listed on this page via TTY (text telephone) by calling the Federal Relay Service at 800-877-8339 (this is a toll-free number)
All States East of the Mississippi River, Plus Iowa and Minnesota | Eastern/Woodlands Office of Native American Programs, Grants Management Division, 77 West Jackson Blvd., Room 2400, Chicago, IL 60604-3507, Telephone: (312) 886-4532, Ext. 2815 or 800-735-3239.
Louisiana, Kansas, Oklahoma, and Texas, except West Texas | Southern Plains Office of Native American Programs, Grants Management Division, 301 NW., 6th Street, Suite 200, Oklahoma City, OK 73102, Telephone: (405) 609-8525.
Colorado, Montana, Nebraska, North Dakota, South Dakota, Utah, and Wyoming | Northern Plains Office of Native American Programs, Grants Management Division, UMB Plaza, 1670 Broadway, Denver, CO 80202-4801, Telephone: (303) 672-5465 or 888-814-2945.
Arizona, California, and Nevada | Southwest Office of Native American Programs, Grants Management Division, One North Central Avenue, Suite 600, Phoenix, AZ 85004-2361, Telephone: (602) 379-7220.
New Mexico and West Texas | Southwest Office of Native American Programs, Grants Management Division, 625 Silver Ave., SW., Suite #300, Albuquerque, NM 87102-3185, Telephone: (505) 346-6923.
Idaho, Oregon, and Washington | Northwest Office of Native American Programs, Grants Management Division, Federal Office Building, 909 First Avenue, Suite 300, Seattle, WA 98104-1000, Telephone: (206) 220-5270.
Alaska | Alaska Office of Native American Programs, Grants Management Division, 3000 C. Street, Suite 401, Anchorage, AK 99503, Telephone: (907) 677-9800.

V. Application Review Information

A. Criteria:

1. Planning and Administrative Costs. Applicants must report project planning and administration costs on Form HUD-4123, Cost Summary. Planning and administrative costs cannot exceed 20 percent of the grant. The following criteria applies to planning and administrative costs:

a. Planning and administrative activities may be funded only in conjunction with a physical development activity.

b. If you are submitting an application for more than one project, costs must be broken down by project. Submit one Form HUD-4123 for each proposed project in addition to a consolidated Form HUD-4123 that includes costs for all proposed projects.

c. Do not include project costs (i.e. architectural/engineering, environmental, technical assistance, staff/overhead costs) directly related to project.

2. Rating Factors to Evaluate and Rate Applications. The factors for rating and ranking applications and the points for each factor are provided below. A maximum of 100 points may be awarded under Rating Factors 1 through 5. To be considered for funding, your application must receive a minimum of 15 points under rating factor 1 and an application score of 70 out of the possible total of 100, the maximum any project can receive. The following summarizes the points assigned to each rating factor and each rating subfactor and lists which rating subfactors apply to which project types. Please use this table to ensure that you are addressing the appropriate rating subfactor for your project.

Rating factor | Rating subfactor | Points | Project type
1 | Total | 30 | Minimum of 15 Points Required
| (1)(a) | 10 | All Project Types.
| (1)(b) | *5 or 7 | All Project Types.
| (1)(c) | *3 or 8 | All Project Types.
| (1)(d) | *2 or 5 | All Project Types.
| (2)(a) | *2 or 0 | All Project Types.
| (2)(b) | *2 or 0 | All Project Types.
| (2)(c) | *2 or 0 | All Project Types.
| (2)(d) | *2 or 0 | All Project Types.
| (2)(e) | *2 or 0 | All Project Types.
2 | Total | 20
| 1 | 5 | All Project Types.
| (2)(a) | 15 | Public Facilities and Improvements and Economic.
| (2)(b) | 15 | New Housing Construction, Housing Rehabilitation, Land Acquisition to Support New Housing, and Homeownership Assistance Projects.
| (2)(c) | 15 | Microenterprise Programs.
3 | Total | 35
| (1) | 14 | All Project Types.
| (2) | 5 | All Project Types.
| (3) | 1 | By Project Type.
| (4)(a) | 15 | Public Facilities and Improvements.
| (4)(b) | 15 | New Housing Construction, Housing Rehabilitation, and Homeownership Assistance Programs.
| (4)(c) | 15 | Economic Development.
| (4)(d) | 15 | Microenterprise Programs.
| (4)(e) | 15 | Land Acquisition to Support New Housing.
4 | Total | 10 | All Project Types.
5 | Total | 5 | All Project Types.
Total |  | 100 | Minimum of 70 Points Required
* The first number listed indicates the maximum number of points available to current ICDBG grantees under this subfactor. The second number indicates the maximum number of points available to new applicants.

Rating Factor 1: Capacity of the Applicant (30 Points)

This factor addresses the extent to which you have the organizational resources necessary to successfully implement the proposed activities in accordance with your implementation schedule. If applicable, past performance in administering previous ICDBG grants will be taken into consideration. You must address the existence or availability of these resources for the specific type of activity for which you are applying. You must receive a minimum of 15 points under this factor for your proposed activity to be eligible for funding. Under this factor, HUD will not rate any projects further that do not receive a minimum of 15 points. Please note: If your application is funded, you will be required to submit an annual status and evaluation report which will describe the status of completed activities and any remaining work to be done (see section VI.C. Reporting). For this factor, the implementation schedule and the Logic Model, Form HUD 96010, you submit will also be measured against actual progress if you are funded.

(1) (20 points for current ICDBG grantees) (30 points for new applicants) Managerial, Technical, and Administrative Capability.

Your application must include documentation demonstrating that you possess or can obtain managerial, technical, and administrative capability necessary to carry out the proposed project. Your application must address who will administer the project and how you plan to handle the technical aspects of executing it in accordance with your implementation schedule.

(a) (10 points) Managerial and Technical Staff.

The extent to which your application describes the roles and responsibilities and the knowledge and experience of your overall proposed project director and staff, including the day-to-day program manager, consultants, and contractors in planning, managing, and implementing projects in accordance with the implementation schedule for which funding is being requested. Experience will be judged in terms of recent, relevant, and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor.

(10 Points). The applicant has adequately described the roles and responsibilities and the knowledge and experience of its overall project director and staff, including the day-to-day program manager, consultants, and contractors in planning, managing, and implementing projects for which funding is being requested. Staff experience as described in the application is recent (within 5 years), relevant (pertains to the specific activities being proposed) and successful (has produced specific accomplishments).

(5 Points). The applicant has adequately described the roles and responsibilities and the knowledge and experience of its overall project director and staff, including the day-to-day program manager, consultants, and contractors in planning, managing and implementing projects for which funding is being requested. However, one of the following applies: staff experience as described in the application is not recent (not within 5 years), is not relevant (does not pertain to the specific activities being proposed), or is not successful (did not produce specific accomplishments).

(0 Points). The applicant has not adequately described the roles and responsibilities and the knowledge and experience of its overall project director and staff, including the day-to-day program manager, consultants, and contractors in planning, managing, and implementing projects for which funding is being requested or more than one of the following applies: staff experience as described in the application is not recent (not within 5 years), is not relevant (does not pertain to the specific activity being proposed), or is not successful (did not produce specific accomplishments).

(b) (5 points for current ICDBG grantees) (7 points for new applicants) Project Implementation Plan and Program Evaluation.

The extent to which your project implementation plan identifies the specific tasks and timelines that you and your partner contractors and subgrantees will undertake to complete your proposed project on time and within budget. The Project Implementation Schedule, Form HUD-4125, may serve as the required schedule, provided that it is sufficiently detailed to demonstrate that you have clearly thought out your project implementation.

The extent to which your project identifies, measures, and evaluates the specific benchmarks, outputs, outcomes, and goals of your project that enhance community viability. The Logic Model, Form HUD-96010, may serve as the format to address this information.

(5 points for current ICDBG grantees) (7 points for new applicants). The applicant submitted a project implementation plan that clearly specifies project tasks and timelines. The documentation identifies the steps in place to make adjustments to the work plan if tasks are not completed within established time frames. The applicant submitted clear project benchmarks, outputs, outcomes, and targets and identified objectively quantifiable program measures and evaluation processes.

(3 points for current ICDBG grantees) (4 points for new applicants). The applicant submitted a project implementation plan that specifies project tasks and timelines. The applicant submitted project benchmarks, outputs, outcomes, and targets for each, but did not clearly identify objectively quantifiable program measures and evaluation processes.

(0 points for current ICDBG grantees or new applicants). The applicant submitted a project implementation schedule that does not address all project tasks and timelines associated with the project. Project benchmarks, outputs, outcomes, and goals were not submitted, or if submitted, did not address either the quantifiable program measures and the evaluation process.

(c) (3 points for current ICDBG grantees) (8 points for new applicants) Financial Management.

This subfactor evaluates the extent to which your application describes how your financial management systems will facilitate effective fiscal control over your proposed project and meet the requirements of 24 CFR part 85 and 24 CFR part 1003. You must also describe how you will apply your financial management systems to the specific project for which you are applying. The application must include a tribal resolution or other written document signed by the appropriate entity according to tribal practices that adopts your financial management and internal control policies and procedures. The application will also be rated on the seriousness and significance of the findings related to your financial management system identified in your current audit. If you are required to have an audit but do not have a current audit, you must submit a letter from your Independent Public Accountant that is dated within the past 12 months stating that your financial management system complies with all applicable regulatory requirements. If you are not required to have an audit, you will automatically receive points for this portion of the subfactor. For purposes of this subfactor, a current audit is one which has been submitted to the Federal Audit Clearinghouse within 9 months of the end of the applicant's last fiscal year, or 30 days after receipt of the audit report from the auditor, whichever comes first.

(3 points for current ICDBG grantees) (8 points for new applicants). The applicant clearly described how it will apply its financial management systems to the proposed project. A tribal resolution or other written document signed by the appropriate entity according to tribal practices adopting financial management or internal control policies and procedures were included with the application. The applicant's current audit does not contain any serious or significant findings related to its financial management system, or if there is no current audit, the applicant submitted a letter from its Independent Public Accountant stating that its financial management system complies with all applicable regulatory requirements.

(2 points for current ICDBG grantees) (4 points for new applicants). The applicant's current audit does not contain any serious or significant findings related to its financial management system, or if there is no current audit, the applicant submitted a letter from its Independent Public Accountant stating that its financial management system complies with all applicable regulatory requirements. The applicant did not describe how it would apply its financial management systems to the proposed project, or it did not submit a tribal resolution or other written document adopting financial management or internal control policies and procedures. For purposes of this subfactor, a current audit is one which has been submitted to the Federal Audit Clearinghouse within 9 months of the end of the applicant's last fiscal year, or 30 days after receipt of the audit report from the auditor, whichever comes first.

(1 point for current ICDBG grantees) (2 points for new applicants). The applicant's current audit does not contain any serious or significant findings related to its financial management system, or if there is no current audit, the applicant submitted a letter from its Independent Public Accountant stating that its financial management system complies with all applicable regulatory requirements. The applicant did not describe how it would apply its financial management systems to the proposed project, and it did not submit a tribal resolution or other written document adopting financial management or internal control policies and procedures.

(0 points for current ICDBG grantees or new applicants). The applicant's current audit included serious or significant findings related to its financial management systems or if there is no current audit, the applicant did not submit a letter from its Independent Public Accountant stating its financial management systems comply with all regulatory requirements. No tribal resolution or other written document adopting financial management or internal control policies and procedures were submitted with the application, and the applicant did not describe how it would apply its financial management systems to the proposed project.

(d) (2 points for current ICDBG grantees) (5 points for new applicants) Procurement and Contract Management.

This subfactor evaluates the extent to which your application describes how your procurement and contract management policies and procedures will facilitate effective procurement and contract control over your proposed project and meet the requirements of 24 CFR part 85 and 24 CFR part 1003. You must also describe how you will apply your procurement and contract management systems to the specific project for which you are applying. The application must include a tribal resolution or other written document signed by the appropriate entity according to tribal practices that adopts your procurement and contract management policies and procedures. The application will also be rated on the seriousness of the findings related to procurement and contract management identified in your current financial audit. If you are required to have an audit but do not have a current audit, you must submit a letter from your Independent Public Accountant stating that your procurement and contract management system complies with all applicable regulatory requirements. If you are not required to have an audit, you will automatically receive points for this portion of the subfactor.

(2 points for current ICDBG grantees) (5 points for new applicants). The applicant clearly described how its procurement and contract management policies and procedures will facilitate effective procurement and contract control over the proposed project, and meet the requirements of 24 CFR part 85 and 24 CFR part 1003. A tribal resolution or other written document signed by the appropriate entity according to tribal practices adopting procurement and contract management policies and procedures were included with the application. The applicant's current audit does not contain any serious or significant findings related to its procurement and contract management system, or if there is no current audit, the applicant submitted a letter from its Independent Public Accountant stating that its procurement and contract management system complies with all applicable regulatory requirements.

(1 point for current ICDBG grantees) (4 points for new applicants). The applicant's current audit does not contain any serious or significant findings related to its procurement or contract management system, or if there is no current audit, the applicant submitted a letter from its Independent Public Accountant stating that its procurement and contract management system complies with all applicable regulatory requirements. The applicant did not describe how it would apply its procurement and contract management systems to the proposed project, or it did not submit a tribal resolution or other written document adopting procurement and contract management policies and procedures.

(0 points for current ICDBG grantees or new applicants). The applicant's current audit included serious or significant findings related to its procurement and contract management systems or if there is no current audit, it did not submit a letter from its Independent Public Accountant stating its procurement and contract management systems comply with all regulatory requirements. No tribal resolution or other written document adopting procurement or contract management policies and procedures were submitted with the application, and the applicant did not describe how it would apply its procurement and contract management systems to the proposed project.

(2) (10 points for current ICDBG grantees) (0 points for new applicants) Past Performance.

HUD will evaluate your experience in producing timely products and reports in any previous grant programs undertaken with HUD funds for the following performance measures. HUD reserves the right to take into account your past performance in meeting performance and reporting goals on any previous HUD awards.

(a) (2 points for current ICDBG grantees) (0 points for new applicants). You have had satisfactory progress in meeting the timeframes established in the HUD-approved Implementation Schedule for the ICDBG Program.

(2 points). The applicant has made satisfactory progress in meeting the timeframes established in the implementation schedule, or was behind schedule, but has an approved revised implementation schedule that was submitted prior to application deadline.

(0 points). The applicant has not made satisfactory progress meeting timeframes in the most recently approved implementation schedule.

(b) (2 points for current ICDBG grantees) (0 points for new applicants).

(2 points). The applicant has submitted both the Annual Status and Evaluation Reports and Federal Cash Transaction Reports for ICDBG programs in a timely manner.

(1 point). The applicant has submitted either the Federal Cash Transaction Reports or the Annual Status and Evaluation Reports for ICDBG programs in a timely manner.

(0 points). The applicant has not submitted either of the required reports in a timely manner.

(c) (2 points for current ICDBG grantees) (0 points for new applicants). You have submitted close-out documents to HUD in a timely manner. Close-out documents are required for the ICDBG Program within 90 days of the date it is determined that the criteria for close-out at 24 CFR 1003.508 have been met.

(2 points). The applicant submitted close-out documents to HUD in accordance with the timeframe and criteria at § 1003.508.

(0 points). The applicant has not submitted close-out documents to HUD as required by § 1003.508.

(d) (2 points for current ICDBG grantees) (0 points for new applicants). You have submitted annual audits in a timely fashion in accordance with the ICDBG requirements and OMB Circular A-133 and its compliance supplements.

(2 points). The applicant has submitted annual audits in accordance with ICDBG requirements and OMB Circular A-133 and its compliance supplements, or if the applicant has not been required to submit an audit, it will receive 2 points.

(0 points). The applicant has not submitted annual audits in accordance with ICDBG requirements and OMB Circular A-133 and its compliance supplements.

(e) (2 points for current ICDBG grantees) (0 points for new applicants). You have resolved in a timely manner ICDBG monitoring findings and controlled audit findings or there are no findings in current reports.

(2 points). The applicant resolved open ICDBG monitoring findings and controlled audit findings in a timely manner. If there were no open audit or ICDBG monitoring findings (current grantees only), the applicant will receive 2 points.

(0 points). The applicant has not resolved open ICDBG monitoring findings and controlled audit findings in a timely manner.

Rating Factor 2: Need/Extent of the Problem (20 points)

This factor addresses the extent to which there is a need for the proposed project to address a documented problem among the intended beneficiaries.

(1) (up to 5 points). Your application includes quantitative documentation demonstrating that the proposed project meets an essential community development need by providing outcomes that are critical to the viability of the community.

(2) (15 points). Your project benefits the neediest segment of the population, in accordance with the ICDBG program's primary objective defined at 24 CFR 1003.2. The criteria for this subfactor vary according to the type of project for which you are applying. Please note that you may submit data that are unpublished and not generally available in order to meet the requirements of this section. However, to do so, you must submit a demographic data statement along with supporting documentation as described in section IV.B.2.a. For documenting persons employed by the project, you do not need to submit a demographic data statement and corresponding documentation. However, you do need to submit information that describes the nature of the jobs created or retained. Such information includes but is not limited to proposed job descriptions, salaries, and the number of full-time equivalent positions. If you believe jobs will be retained as a result of the ICDBG project, include information that show clearly and objectively, that jobs will be lost without the ICDBG project. Jobs that are retained only for the period of the grant will not count under this rating factor.

(a) Public Facilities and Improvements and Economic Development Projects. The proposed activities benefit the neediest segment of the population, as identified below. For economic development projects, you may consider beneficiaries of the project as persons served by the project and persons employed by the project, and jobs created or retained by the project.

(15 points). 85 percent or more of the beneficiaries are low-or moderate-income.

(10 points). At least 75 percent but less than 85 percent of the beneficiaries are low-or moderate-income.

(5 points). At least 55 percent but less than 75 percent of the beneficiaries are low-or moderate-income.

(0 points) Less than 55 percent of the beneficiaries are low-or moderate-income.

(b) New Housing Construction, Housing Rehabilitation, Land Acquisition to Support New Housing, and Homeownership Assistance Projects. The need for the proposed project is determined by utilizing data from the tribe's 2004 IHBG formula information. The ratio is based on the dollars allocated to a tribe under the IHBG Program for need divided by the sum of the number of AIAN households in the following categories:

— Annual income less than 30 percent of median income;

— Annual income between 30 percent and 50 percent of median income;

— Annual income between 50 percent and 80 percent of median income;

— Overcrowded or without kitchen or plumbing;

— Housing cost burden greater than 50 percent of annual income;

— Housing shortage (Number of low-income AIAN households less total number of NAHASDA and Formula Current Assisted Stock).

This ratio is computed for each tribe and contained in appendix A of this NOFA.

(15 points). The dollar amount for the Indian tribe is $390 to $699 or the tribe's total FY2004 IHBG amount was $100,000 or less and appendix A of this NOFA does not indicate that the Indian tribe has no AIAN households experiencing income or housing problems.

(10 points). The dollar amount for the Indian tribe is $700 to $1,199.

(5 points). The dollar amount for the Indian tribe is $1,200 to $1,999.

(0 points). The dollar amount for the Indian tribe is $2,000 or higher, or appendix A of this NOFA indicates that the Indian tribe has no AIAN households experiencing income or housing problems.

(c) Microenterprise Programs.

A microenterprise is a business that has five or fewer employees, one or more of whom owns the enterprise. The owner(s) of the microenterprise must be low-or moderate-income and the majority of the jobs created or retained will be for low-or moderate-income persons. To evaluate need, the nature of the jobs created or retained will be evaluated. The owners of the microenterprises are low- and moderate-income and:

(15 points). All employees are low-or moderate-income.

(10 points). At least 75 percent but less than 100 percent of the employees are low-or moderate-income.

(5 points). At least 50 percent but less than 75 percent of the employees are low-or moderate-income.

(0 points). Less than 50 percent of the employees are low- and moderate-income.

Rating Factor 3: Soundness of Approach (35 Points)

This factor addresses the quality and anticipated effectiveness of your proposed project's outcomes in enhancing community viability and in meeting the needs you have identified in Rating Factor 2, as well as the commitment to sustain your proposed project. The populations that were described in demographics that documented need should be the same populations that will receive the primary benefit of the proposed project.

(1) (14 points). Description of and Rationale for Proposed Project.

(14 points). The proposed project is a viable and cost-effective approach to address the needs outlined under Rating Factor 2 of your application. The proposed project is described in detail and indicates why you believe the proposed project will be most effective in addressing the identified need. The proposed outcomes for the project clearly describe how the community's viability will be enhanced, including selection of measures listed in Rating Factor 5. The application includes a description of the size, type, and location of the project and a rationale for project design. The application must also include anticipated cost savings due to innovative program design and construction methods. For land acquisition to support new housing projects, you must establish that there is a reasonable ratio between the number of net usable acres to be acquired and the number of low- and moderate-income households to benefit from the project.

(9 points). The proposed project is a viable and cost-effective approach to address the needs outlined under Rating Factor 2 of the application. The project is described in detail and indicates why you believe the project will be most effective in addressing the identified need. Proposed outcomes that will enhance the community's viability are included. The application includes a description of the size, type and location of the project as well as a rationale for project design. For land acquisition to support new housing projects, the applicant has established that there is a reasonable ratio between the number of net usable acres to be acquired and the number of low- and moderate-income households to benefit from this project.

(5 points). The proposed project is a viable and cost-effective approach to address the needs outlined under Rating Factor 2 of the application. The project is described and indicates why you believe it will be most effective in addressing the identified need. Proposed outcomes are included but do not describe how the project will enhance community viability. The application includes a description of the size, type, and location of the project. For land acquisition to support new housing projects, the applicant has established that there is a reasonable ratio between the number of net usable acres to be acquired and the number of low- and moderate-income households to benefit from the project.

(0 points). The proposed project is not a viable and cost-effective approach to address the needs outlined under Rating Factor 2 of the application. The proposed project is not described in detail with an indication of why the applicant believes the project will be most effective in addressing the identified need. Proposed outcomes describing how the project will enhance community viability are not included. For land acquisition to support new housing projects, the applicant has not established that there is a reasonable ratio between the number of net usable acres to be acquired and the number of low- and moderate-income households to benefit from the project.

(2) (5 points). Budget and Cost Estimates.

The quality, thoroughness, and reasonableness of the proposed project budget are documented. Cost estimates must be broken down by line item for each proposed activity, including planning and administration costs, and documented. You must submit documentation listing the qualifications of the person who prepared the cost estimate.

(3) (1 point). HUD Policy Priorities.

Your application addresses the goals for “Improving Our Nation's Communities,” one of HUD's 2004 Policy Priorities, as described in section V.B.12.b. of the NOFA.

(4) (15 points). Commitment to Sustain Activities.

Your application demonstrates your commitment to your community's viability by sustaining your proposed activities. The information provided is sufficient to determine that the project will proceed effectively.

The criteria for this subfactor vary according to the type of project for which you are applying.

(a) Public Facilities and Improvement Projects.

(15 points). If a tribe assumes operation and maintenance responsibilities for the public facilities and improvements, a tribal resolution is included in the application that adopts the operation and maintenance plan and commits the necessary funds to provide for these responsibilities. In addition, the operation and maintenance plan is included in the application and addresses maintenance, repairs, insurance, and replacement reserves and includes a cost breakdown for annual expenses. If an entity other than the tribe commits to pay for operation and maintenance for the public facilities, a letter of commitment from the entity is included in the application that identifies the maintenance responsibilities and, if applicable, responsibilities for operations the entity will assume as well as necessary funds to provide for those responsibilities. Submission of the operation and maintenance plan is not required when an entity other than the tribe assumes operation and maintenance responsibilities. For public facility buildings only, a tribal resolution or letter of commitment is included in the application that identifies the source of, and commits the necessary amount of, operating funds for any recreation, social, or other services to be provided. In addition, letters of commitment from service providers are included that address both operating expenses and space needs.

(10 points). If a tribe assumes operation and maintenance responsibilities for the public facilities and improvements, a tribal resolution is included in the application that adopts the operation and maintenance plan and commits the necessary funds to provide for these responsibilities. In addition, the operation and maintenance plan is included in the application and addresses most of the above items (maintenance, repairs, insurance, and replacement reserves) but does not include a satisfactory cost breakdown for annual expenses. If an entity other than the tribe commits to pay for operation and maintenance for the public facilities and maintenance, a letter of commitment from the entity is included in the application. The letter identifies the maintenance responsibilities and, if applicable, responsibilities for operations the entity will assume, but does not include information committing the necessary funds to provide for those responsibilities. Submission of the operation and maintenance plan is not required when an entity other than the tribe assumes operation and maintenance responsibilities. For public facility buildings only, a tribal resolution or letter of commitment is included in the application that identifies the source of, and commits the necessary amount of, operating funds for any recreation, social, or other services to be provided. In addition, letters of commitment from service providers are included that address both operating expenses and space needs. Information provided is sufficient to determine that the project will proceed effectively.

(5 points). If a tribe assumes operation and maintenance responsibilities for the public facilities and improvements, a tribal resolution is included in the application that adopts the operation and maintenance plan and commits the necessary funds to provide for those responsibilities, or the operation and maintenance plan is included in the application and addresses most of the above items (maintenance, repairs, insurance, and replacement reserves). If an entity other than the tribe commits to pay for operation and maintenance for the public facilities and maintenance, the maintenance provider is identified and, if applicable, details the responsibilities for operations the entity will assume; however, no letter of commitment is included. For public facility buildings only, no tribal resolution or letter of commitment is included in the application that identifies the source of, and commits the necessary amount of, operating funds for any recreation, social, or other services to be provided. However, letters of commitment to provide services are included but do not address operating expenses and space needs. Information provided is sufficient to determine that the project will proceed effectively.

(0 points). None of the above criteria is met.

(b) New Housing Construction, Housing Rehabilitation, and Homeownership Assistance Projects.

(15 points). The ongoing maintenance responsibilities are clearly identified for the tribe and the participants, as applicable. Any participant maintenance responsibilities are included on a statement to be signed by the participant as a condition of receiving grant assistance. In addition, the statement to be used is included in the application. If the tribe or another entity is assuming maintenance responsibilities, then the applicant must submit either a tribal resolution or letter of commitment to that effect.

(10 points). Maintenance responsibilities are identified, but lacking in detail, and the above statement (if applicable) to be signed by the participant, or the tribal resolution or letter of commitment regarding maintenance responsibilities is submitted.

(5 points). Tribal maintenance responsibilities are identified but participant responsibilities are either not addressed or do not exist, or there is no tribal resolution or letter of commitment or statement signed by the participant.

(0 points). None of the above criteria is met.

(c) Economic Development Projects.

You must include information or documentation that addresses or provides all of the following in the application: a description of the organizational system and capacity of the entity that will operate the business; documents which show that formal provisions exist for separation of government functions from business operating decisions, an operating plan for the project, the feasibility and market analysis of the proposed business activity, and the financial viability of the project.

Appropriate documents to include in the application to address these items include:

(i) Articles of incorporation, by-laws, and resumes of key management positions and board members for the entity that will operate the business.

(ii) Business operating plan.

(iii) Market study no more than two years old and which has been conducted by an independent entity.

(iv) Feasibility study no more than two years old which indicates how the proposed business will capture a fair share of the market, and which has been conducted by an independent entity.

(v) Detailed cost summary for the development of the project.

(vi) Five-year operating or cash flow financial projections.

(vii) For the expansion of an existing business, copies of financial statements for the most recent three years (or the life of the business, if less than three years).

The submitted documentation will be evaluated to determine the project's financial chance for success. The following information must be addressed to meet this requirement:

(i) Does the business plan seem thorough and does the organizational structure have quality control and responsibilities built in?

(ii) Does the business plan or market analysis indicate that a substantial market share is likely within five years?

(iii) Do the costs appear to be reasonable given projected income and information about inputs?

(iv) Does the business plan or cash flow analysis indicate that cash flow will be positive within the first year?

(v) Is the financial statement clean with no indications of concern by the auditor?

(15 points). All above documents applicable to the proposed project are included in your application and provide evidence that the project's chance for financial success is excellent.

(8 points). All or most of the above documents applicable to the proposed project are included and provide evidence that the project's chance for financial success is reasonable.

(0 points). Neither of the above criteria is met.

(d) Microenterprise Programs.

You must include the following information or documentation in the application that addresses or provides a description of how your microenterprise program will operate. Appropriate information to include in the application to address program operations includes:

(i) Program description. A description of your microenterprise program including the types of assistance offered to microenterprise applicants and the types of entities eligible to apply for such assistance.

(ii) Processes for selecting applicants. A description of your processes for analyzing microenterprise applicants' business plans, market studies, and financial feasibility. For credit programs, you must describe your process for determining the loan terms (i.e. interest rate, maximum loan amount, duration, loan servicing provisions) to be offered to individual microenterprise applicants.

(15 points). All of the above information or documentation applicable to the proposed project are thoroughly addressed in the application and the chances for success are excellent.

(8 points). All or most of the above information or documentation applicable to the proposed project are addressed in the application and the chances for success are reasonable.

(0 points). Neither of the above criteria is met.

(e) Land Acquisition Projects to Support New Housing.

Submissions must include the results of a preliminary investigation conducted by a qualified independent entity demonstrating that the proposed site has suitable soil conditions for housing and related infrastructure, has potable drinking water accessible for a reasonable cost, has access to utilities, vehicular access, drainage, nearby social and community services, and has no known environmental problems.

(15 points). The submissions include all of the above-mentioned items and all necessary infrastructure is in place.

(8 points). The submissions demonstrate that the proposed site(s) is/are suitable for housing but that not all necessary infrastructure is in place. A detailed description of resources to be used and a detailed implementation schedule for development of all necessary infrastructure demonstrates that such infrastructure, as needed for proposed housing development, will be developed in time for such development, but no later than two years after site purchase.

(0 points) Neither of the above criteria is met.

Rating Factor 4: Leveraging Resources (10 Points)

HUD believes that ICDBG funds can be used more effectively to benefit a larger number of Native American and Alaska Native persons and communities if projects are developed that use tribal resources and resources from other entities in conjunction with ICDBG funds. To encourage this, we will award points based on the percentage of non-ICDBG resources provided relative to project costs as follows:

Non-ICDBG resources to project costs | Points
Less than 5 percent | 0
At least 5 percent but less than 10 percent | 2
At least 10 percent but less than 15 percent | 4
At least 15 percent but less than 20 percent | 6
At least 20 percent but less than 25 percent | 8
25 percent or more | 10

Contributions that could be considered as leveraged resources for point award include, but are not limited to: tribal trust funds; loans from individuals, organizations, private foundations or businesses; State or Federal loans or guarantees; other grants including IHBG (also known as NAHBG) funds; donated goods and services needed for the project; land needed for the project; and direct administrative costs. With the exception of land acquisition, funds that have been expended on the project prior to application submission will not be counted as leverage. Applicants are reminded that environmental review requirements under 24 CFR part 58 apply to the commitment or use of both ICDBG and non-ICDBG funds in a leveraged project. See section VI.B.a. for information related to this requirement.

Contributions that will not be considered include, but are not limited to: indirect administrative costs as identified in OMB Circular A-87, attachment A, section F; contributions of resources to pay for anticipated operations and maintenance costs of the proposed project; and, in the cases of expansions to existing facilities, the value of the existing facility.

To be considered for point award, letters of firm or projected commitments, memoranda of understanding, or agreements to participate from any entity, including the tribe, which will be providing a contribution to the project, must accompany the application.

To demonstrate the commitment of tribal resources, the application must contain a council resolution or legal equivalent that identifies and commits the tribal resources to the project, subject to approval of the ICDBG assistance. In the case of IHBG funds, whether the tribe or a TDHE administers them, an approved IHP must identify and commit the IHBG resources to the project. If the tribe/TDHE intends to include the leveraged commitment in a future IHP, the application must contain a council resolution or legal equivalent that identifies and commits the IHBG resources to the project subject to the same requirements as above.

To demonstrate the commitment of public agency, foundation, or other private party resources, a letter of commitment, memorandum of understanding, and agreement to participate, including any conditions to which the contribution may be subject, must be submitted with the application. All letters of commitment must include the donor organization's name, the specific resource proposed, the dollar amount of the financial or in-kind resource and method for valuation, and the purpose of that resource within the proposed project. An official of the organization legally authorized to make commitments on behalf of the organization must sign the commitment.

HUD recognizes that in some cases, firm commitments of non-tribal resources may not be obtainable by your tribe by the application due date. For such projected resources, your application must include a statement from the contributing entity that describes why the firm commitment cannot be made at the current time and affirms that your tribe and the proposed project meets eligibility criteria for receiving the resource. In addition, a date by which the funding decisions will be made must be included. This date cannot be more than six months from the anticipated date of grant approval notification by HUD. Should HUD not receive notification of the firm commitment within 6 months of the date of grant approval, HUD will recapture the grant funds approved and will use them in accordance with the requirement of 24 CFR 1003.102.

In addition to the above requirements, for all contributions of goods, services and land, you must demonstrate that the donated items are necessary to the actual development of the project and include comparable costs (or time estimates, if appropriate) that support the donation. Land valuation must be established using one of the following methods and the documentation must be contained in the application: a site-specific appraisal no more than two years old; an appraisal of a nearby comparable site also no more than two years old; a reasonable extrapolation of land value based on current area realtor value guides; or, a reasonable extrapolation of land value based on recent sales of similar properties in the same area.

Rating Factor 5: Comprehensiveness and Coordination (5 Points)

This factor addresses the extent to which your project planning and proposed implementation reflect a coordinated, community-based process of identifying and addressing needs including assisting beneficiaries and the program to achieve self-sufficiency and sustainability. Please note that the Logic Model, HUD Form 96010, is not required for Rating Factor 5 under the ICDBG Program. However, applicants may use this form to address program evaluation requirements under Rating Factor 1(1)b. of this NOFA, and measurable outputs and outcomes in section (2) of this factor.

(1) (Up to 2 points). The application addresses the extent to which you have coordinated your proposed ICDBG activities with other organizations and tribal departments that are not directly participating in your proposed work activities (not project partners such as those listed under Rating Factor 4: Leveraging), but with which you share common goals and objectives and are working toward meeting these objectives in a holistic and comprehensive manner. For example, your project is consistent with and, to the extent possible, identified in the IHP (One-Year Financial Resources Narrative; Table 2, Financial Resources, part I, Line 1E; and Table 2, Financial Resources, part II) submitted by you or on your behalf for the IHBG Program. If the IHP for the IHBG program year that coincides with the implementation of the ICDBG-proposed project has not been submitted, you must provide an assurance that when submitted, the IHP will specifically reference the proposed project.

(2) (Up to 3 points). Your proposed project will have measurable outputs and outcomes that will enhance community viability.

Outputs must include, where applicable:

• Number of houses rehabilitated;

• Number of jobs created or obtained;

• Square feet for any public facility;

• Number of education or job training opportunities provided;

• Number of homeownership units constructed or financed;

• Number of businesses assisted (including number that are minority or Native American);

• Number of families proposed to be assisted with a drug-elimination program, or with a program to reduce or eliminate health-related hazards.

Outcomes must include, where appropriate:

• Reduction in the number of families living in substandard housing;

• Increased income resulting from employment generated by project;

• Increased quality of life due to services provided by the public facility;

• Increased economic self-sufficiency of recipients of program beneficiaries;

• Increase in homeownership rates;

• Reduction of drug-related crime or health-related hazards.

B. Reviews and Selection Process:

1. Application Selection Process. You must meet all of the applicable threshold requirements listed in section IV.E.3. and 4. Your application must meet all screening for acceptance requirements and all identified applicant and project-specific thresholds. HUD will review each application and assign points in accordance with the selection factors described in this section.

2. Threshold Compliance. The Area ONAP will review each application that passes the screening process to ensure that each applicant and each proposed project meets the applicant threshold requirements set forth in 24 CFR 1003.301(a) and the project-specific threshold requirements set forth in 24 CFR 1003.302 and section IV.E.3 and 4 of this NOFA.

3. Past Performance. An applicant's past performance is evaluated under Rating Factor 1, Capacity of the Applicant. Applicants are encouraged to address all performance-related criteria prior to submission of an application. In order to meet the minimum point requirements outlined in this NOFA, an applicant must score a minimum of 15 points under Rating Factor 1.

4. Rating Panels. The Area ONAP office for your jurisdiction, as listed in section IV.F.3., will rate applications. Rating panels may be used only for the summary review, after the application is rated, as discussed in section V.B.5. below.

5. Rating. The Area ONAP will review and rate each project that meets the acceptance criteria and threshold requirements. After the applications are rated, a summary review of all applications will be conducted to ensure consistency in the application rating. The summary review will be performed by either the Grants Management Director (or designee) or by a panel composed of up to three staff members.

The total points for all rating factors are 100. A maximum of 100 points may be awarded under Rating Factors 1 through 5.

6. Minimum Points. To be considered for funding, your application must receive a minimum of 15 points under Rating Factor 1 and an application score of 70 out of the possible total of 100.

7. Ranking. All projects will be ranked against each other according to the point totals they receive, regardless of the type of project or component under which the points were awarded. Projects will be selected for funding based on the final ranking to the extent that funds are available. The Area ONAP will determine individual grant amounts in a manner consistent with the considerations set forth in 24 CFR 1003.100(b)(2). Specifically, the Area ONAP may approve a grant amount less than the amount requested. In doing so, the Area ONAP may take into account the size of the applicant, the level of demand, the scale of the activity proposed relative to need and operational capacity, the number of persons to be served, the amount of funds required to achieve project objectives, and the reasonableness of the project costs. If the Area ONAP determines that there are not enough funds available to fund a project as proposed by the applicant, it may decline to fund that project and may fund the next highest-ranking project or projects for which adequate funds are available. In rank order, the Area ONAP may select additional projects for funding if one of the higher-ranking projects is not funded or if additional funds become available.

8. Tiebreakers. When rating results in a tie among projects and insufficient resources remain to fund all tied projects, the Area ONAP will approve projects that can be fully funded over those that cannot be fully funded. When that does not resolve the tie, the Area ONAP will use the following factors in the order listed to resolve the tie:

(a) The applicant that has not received an ICDBG over the longest period of time.

(b) The applicant with the fewest active ICDBGs.

(c) The project that would benefit the highest percentage of low- and moderate-income persons.

9. Technical Deficiencies and Pre-award Requirements.

a. Technical Deficiencies: If there are technical deficiencies in successful applications, you must satisfactorily address these deficiencies before HUD can make a grant award. After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order to not exclude applications from being rated and ranked, HUD may contact applicants to ensure proper completion of the application and will do so on a uniform basis for all applicants. Examples of curable (correctable) technical deficiencies include failure to submit the proper certifications or failure to submit an application signed by an authorized official. In each case, HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday, or federal holiday). If the technical deficiency is not corrected within this time period, HUD will reject the application as incomplete and it will not be considered for funding.

b. Pre-award Requirements: Before a grant agreement can be executed, successful applicants may be required to provide supporting documentation concerning the management, maintenance, operation, or financing of proposed projects. Such documentation may include additional specifications on the scope, magnitude, timing, or method of implementing the project, or information to verify the commitment of other resources required to complete, operate, or maintain the proposed project. Applicants will be provided 30 calendar days to respond to these requirements. No extensions will be provided. If you do not respond within the time period or you make an insufficient response, the Area ONAP will determine that you have not met the requirements and will withdraw the grant offer. You may not substitute new projects for those originally proposed in your application and any new information will not affect your project's rating and ranking. In accordance with the provisions of this NOFA, the Area ONAP will award grant amounts that had been allocated for applicants unable to meet pre-award requirements.

10. Error and Appeals. Judgments made within the provisions of this NOFA and the program regulations (24 CFR part 1003) are not subject to claims of error. You may bring arithmetic errors in the rating and ranking of applications to the attention of the Area ONAPs within 30 days of being informed of your score. If an arithmetic error was made in the application review and rating process that, when corrected, would result in the award of sufficient points to warrant the funding of an otherwise approvable project, the Area ONAPs may fund that project in the next funding round without further competition.

11. HUD's Strategic Goals. Implementing HUD's Strategic Framework and Demonstrating Results. HUD is committed to ensuring that programs result in the achievement of HUD's strategic mission. To support this effort, grant applications submitted for HUD programs will be rated on how well they tie proposed outcomes to HUD's policy priorities and annual goals and objectives, and the quality of proposed evaluation and monitoring plans. HUD's Strategic Framework establishes the following goals and objectives for the Department:

a. Increase homeownership opportunities:

(1) Expand national homeownership opportunities.

(2) Increase minority homeownership.

(3) Make the homebuying process less complicated and less expensive.

(4) Fight practices that permit predatory lending.

(5) Help HUD-assisted renters become homeowners.

(6) Keep existing homeowners from losing their homes.

b. Promote decent affordable housing:

(1) Expand access to affordable rental housing.

(2) Improve the physical quality and management accountability of public and assisted housing.

(3) Increase housing opportunities for the elderly and persons with disabilities.

(4) Help HUD-assisted renters make progress toward self-sufficiency.

c. Strengthen communities:

(1) Improve economic conditions in distressed communities.

(2) Make communities more livable.

(3) End chronic homelessness.

(4) Mitigate housing conditions that threaten health.

d. Ensure equal opportunity in housing:

(1) Resolve discrimination complaints on a timely basis.

(2) Promote public awareness of Fair Housing laws.

(3) Improve housing accessibility for persons with disabilities.

e. Embrace high standards of ethics, management, and accountability:

(1) Rebuild HUD's human capital and further diversify its workforce.

(2) Improve HUD's management, internal controls and systems, and resolve audit issues.

(3) Improve accountability, service delivery, and customer service of HUD and our partners.

(4) Ensure program compliance.

f. Promote participation of grassroots faith-based and other community-based organizations:

(1) Reduce regulatory barriers to participation by grassroots faith-based and other community-based organizations.

(2) Conduct outreach to inform potential partners of HUD opportunities.

(3) Expand technical assistance resources deployed to grassroots faith-based and other community-based organizations.

(4) Encourage partnerships between grassroots faith-based and other community-based organizations and HUD's traditional grantees.

You can find out about HUD's Strategic Framework and Annual Performance Plans at http://www.hud.gov/offices/cfo/reports/cforept.cfm.

12. HUD Policy Priorities. HUD encourages applicants to undertake specific activities that will assist the Department in implementing its policy priorities and which help the Department achieve its goals for FY2005, when the majority of funding recipients will be reporting programmatic results and achievements. ICDBG applicants that include work activities which specifically address Policy Priority b (Improving Our Nation's Communities) will receive one point for addressing this Priority under section V.B 2., Rating Factor 3, Soundness of Approach.

a. Providing Increased Homeownership and Rental Opportunities for Low- and Moderate-Income Persons, Persons with Disabilities, the Elderly, Minorities, and Families with Limited English Proficiency. Too often, these individuals and families are shut out of the housing market through no fault of their own. Developers of housing, housing counseling agencies, and other organizations engaged in the housing industry often must work aggressively to open up the realm of homeownership and rental opportunities to low- and moderate-income persons, persons with disabilities, the elderly, minorities, or persons with limited English proficiency. Many of these families are anxious to have a home of their own but are not aware of the programs and assistance that is available. Applicants are encouraged to address the housing, housing counseling, and other related supportive services needs of these individuals and coordinate their proposed activities with funding available through HUD's affordable housing programs and home loan programs. Proposed activities support strategic goals a, b and c.

b. Improving our Nation's Communities. HUD wants to improve the quality of life for those living in distressed communities. Applicants are encouraged to include activities which:

(1) Bring private capital into distressed communities to:

(a) Finance business investments to grow new businesses;

(b) Maintain and expand existing businesses;

(c) Create a pool of funds for new small and minority-owned businesses;

(d) Create decent jobs for low-income persons.

(2) Improve the environmental health and safety of families living in public and privately owned housing by including activities which:

(a) Coordinate lead hazard-reduction programs with weatherization activities funded by State and local governments, and the Federal Government;

(b) Reduce or eliminate health-related hazards in the home caused by toxic agents such as molds and other allergens, carbon monoxide, and other hazardous agents and conditions.

(3) Make communities more livable by including activities which:

(a) Provide public and social services;

(b) Improve infrastructure and community facilities.

These activities support Strategic Goals b, c, and d.

c. Encouraging Accessible Design Features. As described in section VI.B.1.c., applicants must comply with applicable civil rights laws including the Fair Housing Act, section 504 of the Rehabilitation Act of 1973, and the Americans with Disabilities Act. These laws, and regulations implementing them, provide for nondiscrimination based on disability and require housing and other facilities to incorporate certain features intended to provide for their use and enjoyment by persons with disabilities. HUD is encouraging applicants to add accessible design features beyond those required under civil rights laws and regulations. These features would eliminate many other barriers limiting the access of persons with disabilities to housing and other facilities. Copies of the Uniform Federal Accessibility Standards (UFAS) are available from the SuperNOFA Information Center (1-800-HUD-8929 or 1-800-HUD-2209 (TTY)) and also from the Office of Fair Housing and Equal Opportunity, U.S. Department of Housing and Urban Development, Room 5230, 451 Seventh Street, SW., Washington, DC 20410; 202-755-5404 or 1-800-877-8399 (TTY Federal Information Relay Service).

Accessible design features are intended to promote visitability and incorporate features of universal design as described below:

(1) Visitability in New Construction and Substantial Rehabilitation. In areas where other accessibility requirements do not apply, applicants are encouraged to incorporate visitability standards where feasible in new construction and substantial rehabilitation projects. Visitability standards allow a person with mobility impairments access into the home, but do not require that all features be made accessible. Visitability means that there is at least one entrance at grade (no steps), approached by an accessible route such as a sidewalk; and that the entrance door and all interior passage doors are at least 2 feet 10 inches wide, allowing 32 inches of clear passage space. A visitable home also serves persons without disabilities, such as a mother pushing a stroller or a person delivering a large appliance. More information about visitability is available at http://www.concretechange.org/.

These activities support Strategic Goals b, c, and d.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost. Universal design benefits people of all ages and abilities. In addition to any applicable required accessibility features under section 504 of the Rehabilitation Act of 1973 or the design and construction requirements of the Fair Housing Act, the Department encourages applicants to incorporate the principles of universal design when developing housing, community facilities, and electronic communication mechanisms, or when communicating with community residents at public meetings or events. HUD believes that by creating housing that is accessible to all, it can increase the supply of affordable housing for all, regardless of ability or age. Likewise, creating places where people work, train, and interact which are useable and open to all residents increases opportunities for economic and personal self-sufficiency. More information on universal design is available from the Center for Universal Design, at http://www.ncsu.edu/www/ncsu/design/sod5/cud/ or the Resource Center on Accessible Housing and Universal Design, at http://www.abledata.com/Site_2/accessib.htm.

These activities support Strategic Goals a, b, c, and d.

d. Providing Full and Equal Access to Grassroots Faith-Based and Other Community-Based Organizations in HUD Program Implementation.

(1) HUD encourages nonprofit organizations, including grassroots faith-based and other community-based organizations, to participate in the vast array of programs for which funding is available through this NOFA and the SuperNOFA. HUD also encourages states, units of local government, universities, colleges, and other organizations to partner with grassroots organizations, e.g., civic organizations, faith-communities, and grassroots faith-based and other community-based organizations that have not been effectively utilized. These grassroots organizations have a strong history of providing vital community services such as assisting the homeless and preventing homelessness, counseling individuals and families on fair housing rights, providing elderly housing opportunities, developing first-time homeownership programs, increasing homeownership and rental housing opportunities in neighborhoods of choice, developing affordable and accessible housing in neighborhoods across the country, creating economic development programs, and supporting the residents of public housing facilities. HUD wants to make its programs more effective, efficient, and accessible by expanding opportunities for grassroots organizations to participate in developing solutions for their own neighborhoods. Additionally, HUD encourages applicants to include these grassroots faith-based and other community-based organizations in their workplans. Applicants, their partners, and participants must review the ICDBG NOFA to determine whether they are eligible to apply for funding directly or whether they must establish a working relationship with an eligible applicant in order to participate in a HUD funding opportunity. Grassroots faith-based and other community-based organizations, and applicants who currently or propose to partner, fund, subgrant or subcontract with grassroots organizations (including grassroots faith-based or other community-based nonprofit organizations eligible under applicable program regulations) in conducting their work programs will receive higher rating points if specified in the NOFA.

(2) Definition of Grassroots Organizations.

(a) HUD will consider an organization a “grassroots organization” if it is headquartered in the local community to which it provides services; and,

(i) has a social services budget of $300,000 or less, or

(ii) has six or fewer full-time equivalent employees.

(b) Local affiliates of national organizations are not considered “grassroots.” Local affiliates of national organizations are encouraged, however, to partner with grassroots organizations but must demonstrate that they are currently working with a grassroots organization (e.g., having a faith-community or civic organization, or other charitable organization provide volunteers).

(c) The cap provided in paragraph (2)(a)(i) above includes only that portion of an organization's budget allocated to providing social services. It does not include other portions of the budget such as salaries and expenses not directly expended in the provision of social services.

These activities support Strategic Goal f.

e. Participation of Minority Serving Institutions in HUD Programs. Pursuant to Executive Orders 13256 (President's Board of Advisors on Historically Black Colleges and Universities), 13230 (President's Advisory Commission on Educational Excellence for Hispanic Americans), 13216 (Increasing Participation of Asian Americans and Pacific Islanders in Federal Programs), and 13270 (Tribal Colleges and Universities), HUD is strongly committed to broadening the participation of Minority Serving Institutions (MSIs) in its programs. HUD is interested in increasing the participation of MSIs in order to advance the development of human potential, strengthen the Nation's capacity to provide high-quality education, and increase opportunities for MSIs to participate in and benefit from Federal financial assistance programs. HUD encourages all applicants and recipients to include meaningful participation of MSIs in their work programs. A listing of MSIs can be found on the Department of Education Web site at http://www.ed.gov/about/offices/list/ocr/edlite-minorityinst-as-vi.html or HUD's Web site at http://www.hud.gov.

These activities support Strategic Goals c and d.

f. Ending Chronic Homelessness within Ten Years. President Bush has set a national goal to end chronic homelessness within ten years. HUD has embraced this goal and has pledged that HUD's grant programs will be used to support the President's goal and more adequately meet the needs of chronically homeless individuals. A person experiencing chronic homelessness is defined as an unaccompanied individual with a disabling condition who has been continuously homeless for a year or more or has experienced four or more episodes of homelessness over the last three years. Applicants are encouraged to target assistance to chronically homeless persons by undertaking activities that will result in:

(1) Creation of affordable group homes or rental housing units;

(2) Establishing a set-aside of units of affordable housing for the chronically homeless;

(3) Substance abuse treatment programs targeted to the homeless population;

(4) Job training programs that will provide opportunities for economic self-sufficiency;

(5) Counseling programs that assist homeless persons in finding housing, learning financial management and anger management, and building interpersonal relationships;

(6) Supportive services, such as health care assistance that will permit homeless individuals to become productive members of society;

(7) Provision of Service Coordinators or One Stop Assistance Centers that will ensure that chronically homeless persons have access to a variety of social services;

(8) Applicants that are developing programs to meet this goal should be mindful of the requirements implementing section 404 of the Rehabilitation Act of 1973, in particular, 24 CFR 8.4(b)(1)(iv), 8.4(c)(1), and 8.4(d).

These activities support Strategic Goals b and c.

13. Performance and Compliance Actions of Funding Recipients. HUD will measure and address the performance and compliance actions of funding recipients in accordance with the applicable standards and sanctions of their respective programs.

VI. Award Administration Information

A. Anticipated Announcement and Award Dates. Awards are expected to be announced by May 20, 2005. Once a congressional release date has been obtained, a grant award letter, a grant agreement, and other forms and certifications will be mailed to the recipient for signature and return to the Area ONAP.

As soon as rating and ranking are completed and it has been determined that the applicant has complied with any pre-award requirements (see section V.B.9.b. of this NOFA), the grant will be awarded. The grant agreement, which is signed by HUD and the recipient, establishes the conditions by which both the Area ONAP and the recipient must abide during the life of the grant. All grants are conditioned upon the completion of all environmental obligations and approval of release of funds by the Area ONAP in accordance with the requirements of 24 CFR part 58. HUD may impose other grant conditions if additional actions or approvals are required before the use of funds.

B. Administrative and National Policy Requirements.

1. Statutory and Regulatory Requirements.

a. Environmental Requirements. As required by 24 CFR 1003.605, ICDBG grantees must perform environmental reviews of ICDBG activities in accordance with 24 CFR part 58 (as amended September 29, 2003). Grantees and other participants in the development process may not commit or expend any ICDBG or nonfederal funds on project activities (other than those listed in 24 CFR 58.22(f), 58.34 or 58.35(b)) until HUD has approved a Request for Release of Funds and environmental certification submitted by the grantee. The expenditure or commitment of ICDBG or nonfederal funds for such activities prior to HUD approval may result in the denial of assistance for the project or activities under consideration.

b. Indian Preference. HUD has determined that the ICDBG program is subject to section 7(b) of the Indian Self-Determination and Education Assistance Act (25 U.S.C. 450e(b)). The provisions and requirements for implementing this section are in 24 CFR 1003.510.

c. Anti-discrimination Provisions. Under the authority of section 107(e)(2) of the CDBG statute, HUD waived the requirement that recipients comply with the anti-discrimination provisions in section 109 of the CDBG statute with respect to race, color, and national origin. You must comply with the other prohibitions against discrimination in section 109 (HUD's regulations for section 109 are in 24 CFR part 6) and with the Indian Civil Rights Act.

d. Conflict of Interest. In addition to the conflict of interest requirements with respect to procurement transactions found in 24 CFR 85.36 and 84.42, as applicable, the provisions of 24 CFR 1003.606 apply to such activities as the provision of assistance by the recipient or sub-recipients to businesses, individuals, and other private entities under eligible activities that authorize such assistance.

e. Economic Opportunities for Low- and Very Low-Income Persons (Section 3). Section 3 requirements apply to the ICDBG Program, but as stated in 24 CFR 135.3(c), the procedures and requirements of 24 CFR part 135 apply to the maximum extent consistent with, but not in derogation of, compliance with Indian Preference.

2. OMB Circulars and Government-wide Regulations Applicable to Financial Assistance Programs. The policies, guidance, and requirements of OMB Circular A-87, Cost Principles Applicable to Grants, Contracts and other Agreements with State and Local Governments; and OMB Circular A-122, Cost Principles for Nonprofit Organizations; and OMB Circular A-133, Audits of State and Local Governments, and Nonprofit Organizations; and the regulations at 24 CFR part 85, Administrative Requirements for Grants and Cooperative Agreements to State, Local and Federally Recognized Indian Tribal Governments apply to the award, acceptance, and use of assistance under the ICDBG program and to the remedies for noncompliance, except when inconsistent with the provisions of the Consolidated Appropriations Act, 2004 (Public Law 108-199, approved January 23, 2004) or the ICDBG program regulations at 24 CFR part 1003. Copies of the OMB Circulars may be obtained from EOP publications. Room 22000, New Executive Office Building, Washington, DC 20503, telephone (202) 395-3080 (this is not a toll-free number) or (800) 877-8339 (TTY Federal Information Relay Service). Information may also be obtained from the OMB Web site at http://www.whitehouse.gov/omb/circulars/index.html.

C. Reporting.

1. Post Award Reporting Requirements.

a. Quarterly Financial Reports. Grant recipients must submit quarterly to the Area ONAP a SF-272, Federal Cash Transaction Report. The report accounts for funds received and disbursed by the recipient.

b. Annual Status and Evaluation Report. Recipients are required to submit this report in narrative form annually. The report is due 45 days after the end of the federal fiscal year and at the time of grant close-out. The report must include:

(1) The narrative part must address the progress made in completing approved activities and include a list of work remaining, along with a revised implementation schedule if necessary. This should include progress on any outputs or outcomes specified in Rating Factor 5;

(2) A breakdown of funds spent on each major project activity or category; and

(3) If the project has been completed, an evaluation of the effectiveness of the project in meeting the community development needs of the grantee, as well as the final outputs and outcomes.

c. Minority Business Enterprise Report. Recipients must submit this report on contract and subcontract activity during the first half of the fiscal year by April 10 and by October 10 for the second half of the fiscal year.

d. A close-out report must be submitted by the recipient within 90 days of completion of grant activities. The report consists of the final Financial Status Report (forms SF 269 or 269A), the final Status and Evaluation Report, and the Close-Out Agreement.

More information regarding these requirements may be found at 24 CFR 1003.506 and 1003.508.

VII. Agency Contact(s) (Required)

A. General Questions. You should direct general program questions to the Area ONAP serving your area or to Barbara Gallegos, Denver Program Office of Native American Programs, Office of Public and Indian Housing, Department of Housing and Urban Development, 1999 Broadway, Suite 3390, Denver, CO 80202; telephone 800-561-5913. Persons with speech or hearing impairments may call HUD's TTY number 202-708-0770, or 1-800-877-8339 (the Federal Information Relay Service TTY). Other than the “800” numbers, these numbers are not toll-free.

B. Technical Assistance. Before the application due date, HUD staff will be available to provide you with general guidance and technical assistance about this NOFA. However, HUD staff is not permitted to assist in preparing your application. Following selection of applicants, but before awards are made, HUD staff are available to assist in clarifying or confirming information that is a prerequisite to the offer of an award.

VIII. Other Information

A. Authority. The authority for this program is Title I of the Housing and Community Development Act of 1974 (42 U.S.C. 5301 et seq.), the Consolidated Appropriations Act of 2004 (Pub.L. 108-199, approved January 23, 2004), and the program regulations in 24 CFR part 1003.

B. NOFA Training. Training for potential applicants on the NOFA requirements will be provided by the Area ONAPs prior to the application deadline. Applicants should contact the Area ONAP for their jurisdiction as identified in section IV.C. 4. of this NOFA.

C. Section 102 of HUD Reform Act, Applicant Debriefing, Documentation, and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of section 102 (57 FR 1942). The documentation, public access, and disclosure requirements of section 102 apply to assistance awarded under this NOFA.

1. Documentation, Public Access, and Disclosure Requirements. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

2. HUD Form 2880. HUD will make available to the public for five years all applicant disclosure reports (HUD Form 2880) submitted in connection with this NOFA. Update reports (also reported on HUD Form 2880) will be made available along with the applicant disclosure reports, but in no case for a period of less than three years. All reports, both applicant disclosures and updates, will be made available in accordance with the Freedom of Information Act (5 U.S.C. 552) and HUD's implementing regulations (24 CFR part 5).

3. Publication of Recipients of HUD Funding. HUD's regulations at 24 CFR part 4 provide that HUD will publish a notice in the Federal Register to notify the public of all decisions made by the Department to provide:

a. Assistance subject to section 102(a) of the HUD Reform Act; and

b. Assistance provided through grants or cooperative agreements on a discretionary (non-formula, non-demand) basis, but that is not provided on the basis of a competition.

4. Debriefing. Beginning 30 days after the awards for assistance are publicly announced and for at least 120 days after awards for assistance are announced publicly, HUD will provide a debriefing to any applicant requesting one on their application. All debriefing requests must be made in writing or by e-mail by the authorized official whose signature appears on the SF-424 form or by his or her successor in office, and submitted to the Area Office you submitted your application to. Information provided during a debriefing will include, at a minimum, the final score you received for each rating factor, final evaluator comments for each rating factor, and the final assessment indicating the basis upon which assistance was provided or denied.

D. Section 103 of the HUD Reform Act. HUD's regulations implementing section 103 of the Department of Housing and Urban Development Reform Act of 1989 (42 U.S.C. 3537a), codified in 24 CFR part 4, subpart B, § 4.26(2)(c) et seq. and § 4.28 apply to this funding competition. The regulations continue to apply until the announcement of the selection of successful applicants. HUD employees involved in the review of applications and in the making of funding decisions are limited by the regulations from providing advance information to any person (other than an authorized employee of HUD) concerning funding decisions or from otherwise giving any applicant an unfair competitive advantage. Persons who apply for assistance in this competition should confine their inquiries to the subject areas permitted under 24 CFR part 4. Applicants or employees who have ethics-related questions should contact the HUD Ethics Law Division at 202-708-3815. (This is not a toll-free number.) HUD employees who have specific program questions should contact the appropriate field office counsel or Headquarters counsel for the program to which the question pertains.

E. Federal E-Grants Information. 1. Streamlining Federal Financial Assistance. The Federal Financial Assistance Management Improvement Act of 1999 (Public Law 106-107) directs each Federal agency to develop and implement a plan that, among other things, streamlines and simplifies the application, administrative, and reporting procedures for Federal financial assistance programs administered by the agency. This law also requires the Director of the Office of Management and Budget (OMB) to direct, coordinate, and assist federal agencies in establishing (1) a common application and reporting system and (2) an interagency process for addressing ways to streamline and simplify Federal financial assistance application and administrative procedures and reporting requirements for program applicants.

HUD is working with the 26 Federal grant-making agencies on President George W. Bush's Grants.gov “FIND and APPLY” Initiative. This Initiative is an effort by federal agencies to develop a common electronic application and reporting system for Federal financial assistance. This system, which will provide “one-stop shopping” for funding opportunities for all Federal programs, is being developed in response to public and government concerns that it is difficult for organizations to know all the funding available from the Federal Government and how to apply for funding. It also is an effort by the Federal Government to develop common application requirements that further streamline the application process, making it easier for you, our customers, to apply for funding.

The first segment of the Grants.gov Initiative focuses on allowing the public to easily FIND funding opportunities and then APPLY via Grants.gov. Funding decisions would still be under the control of the Federal Agency sponsoring the program-funding opportunity. In FY2004 HUD is posting all of its funding notices on http://www.Grants.gov/FIND. It is also placing copies of the electronic application on http://www.Grants.gov/Apply. Applicants should note that the URL for the grants.gov/Apply site is case sensitive, so please carefully copy the URL provided in this Notice to avoid message errors.

During FY2004, HUD applicants will be able to continue to submit paper copies of their application to HUD for funding consideration, and in fact, the paper copy will be the official copy. To find out more about Grants.gov, please go to its Web site and look at the Tutorials and Getting Started information. It is HUD's intent to move to a fully electronic application system in FY2005, so an early test of this feature would benefit both the applicant community and HUD.

F. Paperwork Reduction Act Statement. The information collection requirements in this NOFA have been approved by the Office of Management and Budget (OMB) under the Paperwork Reduction Act of 1995 (44 U.S.C. 3501-3520) and assigned OMB control number 2577-0191. In accordance with the Paperwork Reduction Act, HUD may not conduct or sponsor, and a person is not required to respond to, a collection of information unless the collection displays a valid OMB control number. Public reporting burden for the collection of information is estimated to average 43 hours per annum for the application and grant administration. This includes the time for collecting, reviewing, and reporting the data. The information will be used for grantee selection and monitoring the administration of funds. Response to this request for information is required in order to receive the benefits to be derived.

Dated: October 1, 2004.
Michael Liu,
Assistant Secretary for Public and Indian Housing.

Appendix A:

Data to Determine Need for Factor 2 (for Applicants for New Housing Construction, Housing Rehabilitation, Land Acquisition to Support New Housing, and Homeownership Assistance Projects) For applicants submitting applications for New Housing Construction, Housing Rehabilitation, Land Acquisition to Support New Housing, and Homeownership Acquisition Projects: The need for the proposed project for Factor 2 is determined by utilizing data from the tribe's 2004 IHBG formula information. The data is contained in appendix A. Should you disagree with this information, please consult the IHBG formula customer service center at 800-410-8808 for the process for challenging IHBG formula data. Persons with hearing and speech impairments should call 800-505-5908 (TTY).

BILLING CODE 4210-33-P

[FR Doc. 04-22576 Filed 10-4-04; 2:15 pm]

BILLING CODE 4210-33-P